DEPARTMENT OF HOUSING AND URBAN DEVELOPMENT

[Docket No. FR-5681-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street SW., Room 7262, Washington, DC 20410; telephone (202) 708-1234; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2012 for suitability for use to assist the homeless. The properties were reviewed using information provided to HUD by Federal landholding agencies regarding unutilized and underutilized buildings and real property controlled by such agencies or by GSA regarding its inventory of excess or surplus Federal property.

In accordance with 24 CFR part 581.3(b) landholding agencies were required to notify HUD by December 31, 2012, the current availability status and classification of each property controlled by the Agencies that were published by HUD as suitable and available which remain available for application for use by the homeless.

Pursuant to 24 CFR 581.8(d) and (e) HUD is required to publish a list of those properties reported by the Agencies and a list of suitable/unavailable properties including the reasons why they are not available.

Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; ARMY: Ms. Veronica Rines, Department of the Army, Office of the Assistant Chief of Staff for Installation Management, DAIM-ZS, Room 8536, 2511 Jefferson Davis Hwy, Arlington, VA 22202: (571)-256-8145; COE: Mr. Scott Whiteford, Army Corps of Engineers, Real Estate, CEMP-CR, 441 G Street NW., Washington, DC 20314; (202) 761-5542; COAST GUARD: Commandant, United States Coast Guard, Attn: Jennifer Stomber, 2100 Second St. SW., Stop 7901, Washington, DC 20593-0001; (202) 475-5609; ENERGY: Mr. Mark Price, Department of Energy, Office of Engineering & Construction Management, MA-50, 1000 Independence Ave. SW., Washington, DC 20585: (202) 586-5422; GSA: Mr. Flavio Peres, General Services Administration, Office of Real Property Utilization and Disposal, 1800 F Street NW., Room 7040 Washington, DC 20405, (202) 501-0084; INTERIOR: Mr. Michael Wright, Acquisition & Property Management, Department of the Interior, 1801 Pennsylvania Ave. NW., 4th Floor, Washington, DC 20006: (202) 254-5522; NAVY: Mr. Steve Matteo, Department of the Navy, Asset Management Division, Naval Facilities Engineering Command, Washington Navy Yard, 1330 Patterson Ave. SW., Suite 1000, Washington, DC 20374; (202)685-9426; (These are not toll-free numbers).

Dated: February 5, 2013.
Mark R. Johnston,
Deputy Assistant Secretary for Special Needs.

TITLE V, PROPERTIES REPORTED IN YEAR 2012 WHICH ARE SUITABLE AND AVAILABLE

AIR FORCE

ALASKA

BUILDING

12 Buildings

Property Number: 18201240003

Eielson AFB

Eielson AK 99702

Location: 1120, 1121, 1161, 1190, 1300, 4305, 6131, 6398, 1302, 1191, 5281, 3108

Status: Unutilized

Comments: off-site removal only; sf varies; secured area; contact AF for info. on a specific property & accessibility/removal requirements

12 Buildings

Property Number: 18201240029

JBER-E

Anchorage AK 99506

Location: 9372, 9374, 9382, 9378, 57528, 57501, 57438, 57434, 57432, 57409, 57035, 57033

Status: Underutilized

Comments: off-site removal only; sf. varies; moderate conditions; restricted area; contact AF for more info. on a property & accessibility/removal requirements

9 Buildings

Property Number: 18201240030

JBER-E

Anchorage AK 99506

Location: 5374, 59122, 59348,76520,16519,16521,9570,7179,8197

Status: Unutilized

Comments: off-site removal only; sf. varies; moderate conditions; restricted area; contact AF for more info. on a specific property & accessibility/removal requirements

CALIFORNIA

BUILDING

Facility 1

Property Number: 18200830012

OTHB Radar Site

Tulelake CA 91634

Status: Unutilized

Comments: 7920 sq. ft., most recent use—communications

Facility 2

Property Number: 18200830014

OTHB Radar Site

Tulelake CA 91634

Status: Unutilized

Comments: 900 sq. ft., most recent use—vehicle maint shop

Facilities 3, 4

Property Number: 18200830015

OTHB Radar Site

Tulelake CA 91634

Status: Unutilized

Comments: 4160 sq. ft. each, most recent use—communications

Building 1028

Property Number: 18201240009

19338 North St.

Beale CA 95903

Status: Unutilized

Comments: 178 sf.; storage; poor conditions; asbestos & lead; restricted area; contact AF for info. on accessibility requirements

Building 2153

Property Number: 18201240010

6900 Warren Shingle

Beale AFB CA 95903

Status: Unutilized

Comments: 4,000 sf.; storage; very poor conditions; asbestos & lead possible; restricted area; contact AF for info. On accessibility requirements

CALIFORNIA

LAND

Parcels L1 & L2 Property Number: 18200820034

George AFB

Victorville CA 92394

Status: Excess

Comments: 157 acres/desert, pump-and-treat system, groundwater restrictions, AF access rights, access restrictions, environmental concerns

COLORADO

BUILDING

Bldg. 1425 and 143

Property Number: 18201140024

Peterson AFB

Colorado Springs CO 80914

Status: Unutilized

Comments: off-site removal only; 1425-64,254 sq. ft.; 143-100 sq. ft.; current use: storage to base exchange; need repairs; possible asbestos

Building 300

Property Number: 18201230016

Buckley AFB

Aurora CO 80011

Status: Unutilized

Comments: off-site removal only; 1414 sf.; jet fuel labs; roof has collapse & needs to be replaced; restricted area; contact AF for details on accessibility/removal

FLORIDA

BUILDING

Fac. 90329 Property Number: 18201210085

Cape Canaveral AFS

Cape Canaveral FL 32925

Status: Excess

Comments: 4,203 sq. ft.; current use: office; very poor conditions—needs extensive repairs

Facility 9550

Property Number: 18201230056

Eglin AFB

Eglin FL 32542

Status: Unutilized

Comments: 360 sf.; range support bldg.; vacant; 9 mons. poor conditions; asbestos; contact Range Control for prior approval ea. time to access facility

HAWAII

BUILDING

Bldg. 849

Property Number: 18200330008

Bellows AFS

Bellows AFS HI

Status: Unutilized

Comments: 462 sq. ft., concrete storage facility, off-site use only

IDAHO

BUILDING

38 Buildings

Property Number: 18201230034

Aspen & Lodge Pole

Mountain Home ID 83648

Location: 5001-5013, 5015, 5019-5023, 5025, 5027, 5029, 5031-5033, 5035-5041, 5043, 5101, 5103, 5105, 5107, 5109

Status: Underutilized

Comments: off-site removal only; sf. varies; military housing; minor repairs/renovations needed; asbestos & lead present; restricted area; contact AF for info. on accessibility/removal reqs.

38 Buildings

Property Number: 18201230035

Lodge Pole & Cottonwood

Mountain Home ID 83648

Location: 5110-5121, 5123, 5125, 5127-5132,5134,5137, 5139, 5141, 5144-5146, 5150, 5152-5161

Status: Underutilized

Comments: off-site removal only; sf. varies; military housing; minor repairs/renovations needed; asbestos & lead present; restricted area; contact AF for info. on accessibility/removal reqs.

37 Buildings

Property Number: 18201230036

Cottonwood & Sage

Mountain Home ID 83648

Location: 5162-5164, 5166, 5168, 5170, 5201-5208, 5210,5212, 5214-5219, 5221, 5223, 5225-5229, 5231, 5233, 5235-5240

Status: Underutilized

Comments: off-site removal only; sf. varies; military housing; minor repairs/renovations needed; asbestos & lead present; restricted area; contact AF for info. on accessibility/removal reqs.

38 Buildings

Property Number: 18201230037

Sage, Beech, & Hickory

Mountain Home ID 83648

Location: 5241,5243, 5245-5247, 5249, 5251, 5253-5255, 5257, 5259-5261, 5263, 5265, 5268, 5302-5303, 5305-5313, 5315, 5317, 5319-5323, 5323, 5327

Status: Underutilized

Comments: off-site removal only; sf. varies; military housing; minor repairs/renovations needed; asbestos & lead present; restricted area; contact AF for info. on accessibility/removal reqs.

38 Buildings Property Number: 18201230038

Hickory & Pinon

Mountain Home ID 83648

Location: 5329-5333, 5335, 5337, 5339, 5341-5349, 5351, 5353, 5355-5359, 5361, 5363-5367, 5370-5377

Status: Underutilized

Comments: off-site removal only; sf. varies; military housing; minor repairs/renovations needed; asbestos & lead present; restricted area; contact AF for info. on accessibility/removal reqs.

26 Buildings

Property Number: 18201230041

Mountain Home AFB

Mountain Home ID 83648

Location: 45000, 45004, 45007, 45008, 45011, 45012, 45015, 45019, 45022, 45023, 45027, 45031, 45035, 45036, 45039, 45040, 45043, 45103, 45107, 45111, 45112, 45115, 45116, 45119, 45120, 45123

Status: Underutilized

Comments: off-site removal only; 780 sf. for ea. parking; minor repairs/renovations needed; restricted area; contact AF for info. on accessibility/removals reqs.

74 Buildings

Property Number: 18201230042

Mountain Home AFB

Mountain Home ID 83648

Location: 45127, 45130, 45131, 45134, 45135, 45139, 45143, 45146, 45147, 45152, 45156, 45159, 45160, 45163, 45164, 46168, 45172, 45203, 45204, 45207, 45208, 45212, 45216, 45217, 45220, 45221, 45225, 45228, 45229, 45233, 45237, 45238, 45241, 45242, 45245, 45249, 45253, 45254, 45257, 45261, 45264, 45265, 45268, 45272, 45272, 45305, 45308, 45309, 45312, 45313, 45317, 45321, 45322, 45325, 45329, 45332, 45333, 45337, 45341, 45344, 45345, 45348, 45349, 45353, 45357, 45358, 45361, 45365, 45366, 45367, 45372, 45373, 45376, 45377

Status: Underutilized

Comments: off-site removal only; 780 sf. for ea. parking; minor repairs/renovations needed; restricted area; contact AF for info. on accessibility/removals reqs.

ILLINOIS

BUILDING

Bldg. 500

Property Number: 18201220035

Plum Hill MARS

Belleville IL 62221

Status: Unutilized

Comments: 3,519 sf.; communication facility; no utilities; possible ground contamination; need repairs and remediation

MAINE

BUILDING

Bldgs. 1, 2, 3, 4 Property Number: 18200840009

OTH-B Radar Site

Columbia Falls ME

Status: Unutilized

Comments: various sq. ft., most recent use—storage/office

MASSACHUSETTS

LAND

Land/Tract #A101

Property Number: 18201130003

McDill Rd.

Bedford MA 07131

Status: Unutilized

Comments: 5.35 acres, recent use: AF trailer court, property limitation: local Bedford Zoning By-Laws (Industrial Park District A-IP)

MICHIGAN

BUILDING

B-780 Property Number: 18201210043

Selfridge ANGB

Selfridge MI 48045

Status: Unutilized

Comments: off-site removal only; 54,844 sq. ft.; current use: Admin. office; poor conditions—need repairs; lead based paint, asbestos, and mold identified

B-710

Property Number: 18201210051

43901 Oak St.

Selfridge MI 48045

Status: Unutilized

Comments: off-sit removal only; 1,843 sq. ft.; current use: Admin. office; need repairs; asbestos possible

B-326

Property Number: 18201210052

29865 Mitchell St.

Selfridge MI 48045

Status: Unutilized

Comments: off-site removal only; 12,630 sq. ft.; current use: Admin. office; poor conditions—need repairs; possible asbestos

3 Buildings

Property Number: 18201220020

Selfridge ANGB

Selfridge MI 48045

Location: 326, 780, 710

Status: Unutilized

Comments: off-site removal only; sf varies; office/school/barracks; fair conditions; need repairs

MISSOURI

LAND

Communications Site

Property Number: 18200710001

County Road 424

Dexter Co: Stoddard MO

Status: Unutilized

Comments: 10.63 acres

NEW YORK

BUILDING

Bldg. 240

Property Number: 18200340023

Rome Lab

Rome Co: Oneida NY 13441

Status: Unutilized

Comments: 39108 sq. ft., presence of asbestos, most recent use—Electronic Research Lab

Bldg. 247

Property Number: 18200340024

Rome Lab

Rome Co: Oneida NY 13441

Status: Unutilized

Comments: 13199 sq. ft., presence of asbestos, most recent use—Electronic Research Lab

Bldg. 248

Property Number: 18200340025

Rome Lab

Rome Co: Oneida NY 13441

Status: Unutilized

Comments: 4000 sq. ft., presence of asbestos, most recent use—Electronic Research Lab

B-102

Property Number: 18201210046

Rome Research Site

Rome NY 13441

Status: Unutilized

Comments: 23,408 sq. ft.; current use: office; fair condition; asbestos and lead based paint identified

NORTH CAROLINA

LAND

0.14 acres

Property Number: 18200810001

Pope AFB

Pope AFB NC

Status: Excess

Comments: most recent use—middle marker, easement for entry

OHIO

BUILDING

Facility 80045

Property Number: 18201230061

1050 Forrer Blvd.

Kettering OH 45429

Status: Underutilized

Comments: 101,153 sf.; admin./lab; structurally sound

TENNESSEE

BUILDING

B-675

Property Number: 18201210080

Arnold AFB

Arnold TN 37389

Status: Underutilized

Comments: 17,589 sq. ft.; current use: lab and Admin. office; very poor conditions—need extensive repairs; transferee will be required to obtain a visitor's pass; Contact Air Force for further details.

TEXAS

BUILDING

B-9278

Property Number: 18201210031

Lackland AFB

Lackland TX

Status: Unutilized

Comments: off-site removal only; 1,581 sq. ft.; current use: storage shed; extensive repairs needed; secured facility—need permission prior to entry

2 Bldgs.

Property Number: 18201210067

Sheppard AFB

Sheppard TX

Location: 248, 249

Status: Unutilized

Comments: sq. ft. varies; current use: trng. poor conditions—need repairs; asbestos possible; prior permission to access military installation is required

4 Bldgs.

Property Number: 18201210068

Sheppard AFB

Sheppard TX

Location: 333, 332, 843, 980

Status: Underutilized

Comments: sq. ft. varies; current use: Admin. offices; poor conditions—need repairs; asbestos possible; prior permission to access military installation is required

TEXAS

BUILDING

Fac. 981

Property Number: 18201210069

Sheppard AFB

Sheppard TX

Status: Underutilized

Comments: 22,380 sf; current use: trng classroom; poor conditions—need repairs; asbestos possible; prior permission to access military installation is required

Fac. 1624

Property Number: 18201210070

Sheppard AFB

Sheppard TX

Location: Thrift Shop

Status: Underutilized

Comments: 27,223 sf.; current use: thrift shop; poor conditions—need repairs; asbestos possible; prior permission to access military installation is required

Fac. 1638

Property Number: 18201210071

Sheppard AFB

Sheppard TX

Status: Underutilized

Comments: 12,161 sf; current use: Admin. office; poor conditions—need repairs; asbestos possible; prior permission to access military installation is required

Fac. 1713

Property Number: 18201210072

Sheppard AFB

Sheppard TX

Status: Unutilized

Comments: 1,395 sf; current use: latrine; poor conditions—need repairs; asbestos possible; prior permission to access military installation is required

Fac. 1715

Property Number: 18201210073

Sheppard AFB

Sheppard TX

Status: Underutilized

Comments: 2,590 sf; current use: latrine; poor conditions—need repairs; asbestos possible; prior permission to access military installation is required

Fac. 2013

Property Number: 18201210074

Sheppard AFB

Sheppard TX

Location: Tech. Trng. Lab/Shop

Status: Unutilized

Comments: 25,091 sf.; current use: vacant; poor conditions—need repairs; asbestos possible; prior permission to access military installation is required

Fac. 247

Property Number: 18201210075

Sheppard AFB

Sheppard TX

Status: Excess

Comments: 2,452 sf.; current use; vacant; poor conditions—need repairs; asbestos possible; prior permission to access military installation is required

Fac. 331

Property Number: 18201210076

Sheppard AFB

Sheppard TX

Status: Underutilized

Comments: 18,295 sf.; current use: unknown; poor conditions—need repairs; asbestos possible; prior permission to access military installation is required

Fac. 250

Property Number: 18201210077

Shepphard AFB

Sheppard TX

Status: Unutilized

Comments: 114 sf.; current use: vacant; poor conditions—need repairs; asbestos possible; prior permission to access military installation is required

6 Buildings

Property Number: 18201220038

Medina Trng. Annex

Lackland AFB TX

Location: 587, 595, 596, 597, 598, 599

Status: Unutilized

Comments: off-site removal only; 2,418 sf. for each; igloos; secured area; prior approval needed to access; deteriorated conditions; needs extensive repairs

TEXAS

LAND

0.13 acres

Property Number: 18200810002

DYAB, Dyess AFB

Tye Co: Taylor TX 79563

Status: Unutilized

Comments: most recent use—middle marker, access limitation

VIRGINIA

BUILDING

Joint Base Langley Eustis

Property Number: 18201240006

1134 Wilson Ave.

Newport News VA

Status: Unutilized

Comments: 887 sf.; storage; poor conditions; restricted area; visitor's pass required; contact AF for more info.

Joint Base Langley Eustis

Property Number: 18201240007

3508 Mulberry Island Rd.

Newport News VA

Status: Unutilized

Comments: 4,026 sf.; storage; poor conditions; restricted pass required; contact AF for more info.

Army

ALABAMA

BUILDING

C1301

Property Number: 21201220017

Ft. McClellan

Ft. McClellan AL 36205

Status: Excess

Comments: off-site removal only; 2,232 sf.; barracks; extensive repairs needed; secured area; need prior approval to access property

ALASKA

BUILDING

Bldg. 00001

Property Number: 21200340075

Kiana Natl Guard Armory

Kiana AK 99749

Status: Excess

Comments: 1200 sq. ft., butler bldg., needs repair, off-site use only

Bldg. 00001

Property Number: 21200710051

Holy Cross Armory

High Cross AK 99602

Status: Excess

Comments: 1200 sq. ft. armory, off-site use only

11 Bldgs.

Property Number: 21201220029

Ft. Greely

Ft. Greely AK 99731

Location: 713, 714, 875, 876, 887, 888, 910, 911, 912, 913

Status: Unutilized

Comments: off-site removal only; sf varies; housing; fair to poor conditions; asbestos and lead; need repairs; need prior approval to access property

B-00877

Property Number: 21201220052

Fort Greely

Ft. Greely AK 99731

Status: Unutilized

Comments: off-site removal only; 14,824 sf.; family housing; poor conditions; need repairs; asbestos & lead identified; secured area; prior approval needed to access & relocate

6 Buildings

Property Number: 21201230008

Ft.Greely

Ft. Greely AK 99731

Location: 350, 833, 835, 878, XSKIA, 834

Status: Unutilized

Comments: off-site removal only; sq. ft. varies; poor conditions—need repairs; some bldgs. have asbestos & lead; contact Army for specific details

ARIZONA

BUILDING

Bldg. S-306

Property Number: 21199420346

Yuma Proving Ground

Yuma Co: Yuma/La Paz AZ 85365-9104

Status: Unutilized

Comments: 4103 sq. ft., 2-story, needs major rehab, off-site use only

Bldg. 503, Yuma Proving Ground

Property Number: 21199520073

Yuma Co: Yuma AZ 85365-9104

Status: Underutilized

Comments: 3789 sq. ft., 2-story, major structural changes required to meet floor loading code requirements, presence of asbestos, off-site use only

Bldg. 43002

Property Number: 21200440066

Fort Huachuca

Cochise AZ 85613-7010

Status: Excess

Comments: 23,152 sq. ft., presence of asbestos/lead paint, most recent use—dining, off-site use only

Bldg. 90551

Property Number: 21200920001

Fort Huachuca

Cochise AZ 85613

Status: Excess

Comments: 1270 sq. ft., most recent use—office, off-site use only

ARKANSAS

BUILDING

7 Bldgs.

Property Number: 21201140055

Pine Bluff Arsenal

Pine Bluff AR 71602

Location: 57240, 57210, 57160, 57150, 57120, 5743, 5739

Status: Unutilized

Comments: off-site removal only; sq. ft. varies; current use: lab/test bldg.

Bldg. 57260

Property Number: 21201140057

Pine Bluff Arsenal

Pine Bluff AR 71602

Status: Unutilized

Comments: off-site removal only; 9,474 sq. ft.; current use: CHM EQ/MAT Bldg.

Bldg. 16440

Property Number: 21201210095

Pine Bluff Arsenal

Pine Bluff AR 71602

Status: Unutilized

Comments: off-site removal; 1,660 sf.; current use: office; extensive mold damage; needs major repairs

CALIFORNIA

BUILDING

Bldgs. 18026, 18028

Property Number: 21200130081

Camp Roberts

Monterey CA 93451-5000

Status: Excess

Comments: 2024 sq. ft. sq. ft., concrete, poor condition, off-site use only

T4243

Property Number: 21201220013

Ord Military Community

Seaside CA 93955

Status: Unutilized

Comments: 2,080 sf.; office space; extremely poor conditions; extensive repairs needed; asbestos & lead identified; remediation needed

258

Property Number: 21201230002

7th Division Rd.

Monterey CA 93928

Location: Hunter Liggett, Fort

Status: Unutilized

Comments: off-site removal only; 192 sf.; use: storage; transferred required to get real estate document authorizing access; secured area; must contact Directorate of Public Works to arrange to access property

5 Buildings

Property Number: 21201230043

JFTB

Los Alamitos CA 90720

Location: 148, 149, 261, 280, 281

Status: Excess

Comments: off-site removal only; sf. varies; use: storage; poor conditions; contamination; permission required to access property to remove of installation

GEORGIA

BUILDING

Bldg. 2593

Property Number: 21199720167

Fort Benning

Ft. Benning Co: Muscogee GA 31905

Status: Unutilized

Comments: 13644 sq. ft., needs rehab, most recent use—parachute shop, off-site use only

Bldg. 4232

Property Number: 21199830291

Fort Benning

null Co: Muscogee GA 31905

Status: Unutilized

Comments: 3720 sq. ft., needs rehab, most recent use—maint. bay, off-site use only

Bldgs. 5974-5978

Property Number: 21199930135

Fort Benning

Ft. Benning Co: Muscogee GA 31905

Status: Unutilized

Comments: 400 sq. ft., most recent use—storage, off-site use only

Bldg. 5993

Property Number: 21199930136

Fort Benning

Ft. Benning Co: Muscogee GA 31905

Status: Unutilized

Comments: 960 sq. ft., most recent use—storage, off-site use only

Bldg. 3866

Property Number: 21200740182

Fort Benning

Ft. Benning GA 31905

Status: Unutilized

Comments: 944 sq. ft., most recent use—office, off-site use only

Bldg. 8682

Property Number: 21200740183

Fort Benning

Ft. Benning GA 31905

Status: Unutilized

Comments: 780 sq. ft., most recent use—admin., off-site use only

Bldg. 8559

Property Number: 21200920032

Fort Benning

Ft. Benning GA 31905

Status: Excess

Comments: RE-DETERMINATION: 288 sf.; Sep Toil/Shower; average conditions; currently unavailable due to the fact that the building is currently being utilized by the Army.

Bldg. 1201

Property Number: 21201140013

685 Horace Emmet Wilson Blvd.

Savannah GA 31409

Status: Excess

Comments: off-site removal only; 8,736 sq. ft.; current use: Administrative office; fair conditions—bldg. need repairs; possible asbestos

10 Buildings

Property Number: 21201230011

Ft. Benning

Ft. Benning GA 31905

Location: 100, 2753, 2755, 2756, 2761, 2816, 3733, 3742, 3744, 3745

Status: Unutilized

Comments: off-site removal only; sq. ft. varies; use: varies; poor conditions; secured area w/limited access; contact Army for details re: accessibility or specific details related to a bldg.

Building 8603

Property Number: 21201240004

Red Arrow Rd.

Ft. Benning GA 31905

Status: Unutilized

Comments: off-site removal only; 192 sf.; Sep Toil/Shower; poor conditions; secured area; contact Army for info. on accessibility/removal

Building 8585

Property Number: 21201240005

9734 Eighth Division

Ft. Benning GA 31905

Status: Unutilized

Comments: off-site removal only; 192 sf.; Sep Toil/Shower; poor conditions; secured area; contact Army for info. on accessibility/removal

Building 8018

Property Number: 21201240006

7964 First Division Rd.

Ft. Benning GA 31905

Status: Unutilized

Comments: off-site removal only; 264 sf.; Sep Toil/Shower; poor conditions; secured area; contact Army for info. on accessibility/removal

Building 4156

Property Number: 21201240007

6923 Rosell St.

Ft. Benning GA 31905

Status: Unutilized

Comments: off-site removal only; 8,460 sf.; TRANS UPH AST; poor conditions

Building 2835

Property Number: 21201240008

6498 Way Ave.

Ft. Benning GA 31905

Status: Unutilized

Comments: off-site removal only; 2,578 sf.; BN HQ BLDG. TT; poor conditions

HAWAII

BUILDING

P-88

Property Number: 21199030324

Aliamanu Military Reservation

Honolulu Co: Honolulu HI 96818

Location: Approximately 600 feet from Main Gate on Aliamanu Drive.

Status: Unutilized

Comments: 45,216 sq. ft. underground tunnel complex, pres. of asbestos clean-up required of contamination, use of respirator required by those entering property, use limitations

3377Z

Property Number: 21201210054

Schofield Barracks

Wahiawa HI 96786

Status: Unutilized

Comments: off-site removal only; 196 sf.; current use: transformer bldg.; poor conditions—needs repairs

Bldg. 00208

Property Number: 21201210078

Dillingham Military

Waialua HI

Status: Unutilized

Comments: offsite removal only; 480 sq. ft.; recent use: hutment

Bldg. 0300B

Property Number: 21201210083

308 Paalaa Uka Pupukea

Wahiawa Co: Honolulu HI 96786

Status: Unutilized

Comments: off-site removal only; 114 sf.; current use: valve house for water tank; fair conditions

12 Bldgs.

Property Number: 21201220009

Schofield Barracks

Wahiawa HI

Location: 2509, 2510, 2511, 2512, 2513, 2514, 2516, 2517, 3030, 3031, 3032, 3035

Status: Unutilized

Comments: off-site removal only; sf. varies; usage varies; storage; good conditions

A0300

Property Number: 21201230009

308 Paalaa Uka Pupukea Rd.

Helemano

Wahiawa HI 96786

Status: Unutilized

Comments: off-site removal only; 17.25 x 21ft.; water storage

2 Buildings

Property Number: 21201230049

Schofield Barracks

Wahiawa HI 96786

Location: M3010, QRAMP

Status: Unutilized

Comments: off-site removal only; sf. varies; repairs needed; secured area; contact Army re: accessibility requirements

2 Buildings

Property Number: 21201230054

553/537 Airdrome Rd.

Wahiawa HI 96786

Location: 1001, 1005

Status: Unutilized

Comments: off-site removal only; sf. varies; use: shed & shelter; poor conditions; abandoned—need repairs

Bldg. 1536

Property Number: 21201230060

Ft. Shafter

Honolulu HI 96819

Status: Unutilized

Comments: off-site removal only; 2,117sf. vehicle storage; need repairs

6 Properties

Property Number: 21201240027

Schofield Barracks

Wahiawa HI 96786

Location: 24, 1005, 2276, B0886, M3010, QBAMP

Status: Unutilized

Comments: Off-site removal only, sf. varies; poor conditions, contact Army for information on accessibility removal and specific details on a particular property

ILLINOIS

BUILDING

2 Buildings

Property Number: 21201230050

3155 Blackhawk Dr.

Ft. Sheridan IL 60037

Location: 128, 573

Status: Underutilized

Comments: Off-site removal only; sf. varies; use: varies; fair conditions; asbestos; secured area; contact Army re: accessibility requirements; transferee must obtain real estate doc. authorizing access/removal

KANSAS

BUILDING

Ft. Riley U.S. Army Reservation

Property Number: 21201110010

9377 6800 N RD

Fort Riley Co: Riley KS 66442

Location: 10 bldgs.: 09377, 09302, 09082, 09083, 09084, 09385, 07033, 07034, 07036, 09015

Status: Unutilized

Comments: Off-site removal only; multiple bldgs. w/various sq. footage (610-10,010 sq. ft.), Current use varies) office to range operation support, very poor conditions—need major repairs

Bldg. 00542

Property Number: 21201130063

Fort Riley KS 66442

Status: Unutilized

Comments: off-site removal only; 14, 528 sq. ft.; recent use: lodging

Bldg. 431

Property Number: 21201220044

Ft. Leavenworth

Ft. Leavenworth KS 66027

Status: Unutilized

Comments: off-site removal only; 2,294 sf.; vacant; poor conditions; need repairs; asbestos & lead; remediation needed; secured area; contact Army re: removal procedures

KENTUCKY

BUILDING

Fort Knox Property Number: 21201110011

Eisenhower Avenue

Fort Knox KY 40121

Location: Bldgs.: 06559, 06571, 06575, 06583, 06584, 06585, 06586

Status: Unutilized

Comments: Off-site removal only; multiple bldgs. w/various sq. footage (2,578—8,440 sq. ft.), current use varies (classroom—dental clinic), lead base paint, asbestos & mold identified

Fort Knox, 10 Bldgs.

Property Number: 21201110012

Bacher Street

2nd Dragoons Rd & Abel St

Fort Knox KY 40121

Location: Bldgs.: 06547, 06548, 06549, 06550, 06551, 06552, 06553, 06554, 06557, 06558,

Status: Unutilized

Comments: off-site removal only, multiple bldgs. w/various sq. footage (8,527—41,631 sq. ft.)lead base paint, asbestos & mold identified in all bldgs. Current use varies

Fort Knox, 10 Bldgs.

Property Number: 21201110015

Eisenhower Ave

Fort Knox KY 40121

Location: Bldgs.: 06535, 06536, 06537, 06539, 06540, 06541, 06542, 06544, 06545, 06546

Status: Unutilized

Comments: Off-site removal only, multiple bldgs. w/various sq. ft. (2,510—78,436 sq. ft.) lead base paint, asbestos & mold has been identified in all bldgs. Current use varies

11 Bldgs.

Property Number: 21201140002

Ft. Knox

Ft. Knox KY 40121

Location: 02422, 02423, 02424, 02425, 02956, 02960, 00173, 02197, 02200, 00097, 00098

Status: Unutilized

Comments: off-site removal only; possible lead based paint, asbestos, and mold in all bldgs.; sq. ft. varies; current use: office

5 Bldgs.

Property Number: 21201140003

Ft. Knox

Ft. Knox KY 40121

Location: 02317, 02323, 02324, 02349, 02421

Status: Unutilized

Comments: off-site removal only; possible lead base paint, asbestos, and mold; sq. ft. varies; current use: office

10 Bldgs.

Property Number: 21201140016

Ft. Knox

Ft. Knox KY 40121

Location: 120, 161, 166, 171, 101, 114, 115, 116, 117, 1196

Status: Unutilized

Comments: off-site removal only; sq. ft. varies; current use: office space to storage; possible asbestos and mold

18 Bldgs.

Property Number: 21201140032

Ft. Knox

Ft. Knox KY 40121

Location: 51, 52, 70, 73, 74, 76, 2961, 2963, 2964, 2969, 2970, 2971, 2972, 2973, 2974, 2975, 2979, 2316

Status: Unutilized

Comments: off-site removal only; possible asbestos, mold, and lead base paint; sq. ft. varies; current use: office

12 Bldgs.

Property Number: 21201140033

Ft. Knox

Ft. Knox KY 40121

Location: 77, 78, 80, 81, 85, 86, 92, 94, 96, 9248, 2995, 2996

Status: Unutilized

Comments: off-site removal only; possible mold, asbestos, and lead base paint; sq. ft. varies; current use: office to storage

Bldg. 2980

Property Number: 21201140078

Ft. Knox

Ft. Knox KY 40121

Status: Unutilized

Comments: off-site removal only; 6,900 sq. ft.; current use: office; possible asbestos and mold

Bldg. 1197

Property Number: 21201140079

Ft. Knox

Ft. Knox KY 40121

Status: Unutilized

Comments: off-site removal only; 2,969 sq. ft.; current use: office; possible lead base paint, asbestos and mold

23 Bldgs.

Property Number: 21201210034

Ft. Knox

Ft. Knox KY 40121

Location: 6097, 6098, 6099, 6113, 6114, 6115, 6116, 6118, 6120, 6121, 6123, 6124, 6614, 6615, 6616, 7107, 9209, 9215, 9231, 9254, 9256, 9361, 9619

Status: Unutilized

Comments: Off-site removal only; sq. ft. varies, current use: varies; poor conditions- need repairs; lead, mold, and asbestos identified

20 Bldgs.

Property Number: 21201210035

Ft. Knox

Ft. Knox KY 40121

Location: 45, 46, 64, 75, 79, 107, 114, 155, 202, 205, 299, 1373, 1997, 2319, 2350, 3007, 6033, 6034, 6035, 6036

Status: Unutilized

Comments: Off-site removal only; sq. ft. varies, current use: varies; poor conditions- need repairs; lead, mold, and asbestos identified

5 Bldgs.

Property Number: 21201210036

Ft. Knox

Ft. Knox KY 40121

Location: 6038, 6039, 6040, 6093, 6094

Status: Unutilized

Comments: Off-site removal only; sq. ft. varies, current use: varies; poor conditions- need repairs; lead, mold, and asbestos identified

22 Bldgs.

Property Number: 21201220020

Ft. Knox

Ft. Knox KY 40121

Location: 79,204, 1610, 1996, 2955, 2959, 2965, 2980, 2991, 6531, 6533, 6560, 6561, 6563, 6564, 6565, 6566, 6592, 6594, 9183, 9319, 9320

Status: Unutilized

Comments: off-site removal only; sf varies; usage varies; need repairs; lead and asbestos identified; need remediation

5 Bldgs.

Property Number: 21201220045

Blue Grass Army Depot

Richmond KY 40475

Location: 501, 558, 909, 1003, 1500

Status: Underutilized

Comments: off-site removal only; relocation may be difficult due to extremely poor conditions; sf varies; current use storage; contact Army for further details

27 Bldgs.

Property Number: 21201220046

Blue Grass Army Depot

Richmond KY 40475

Location: F0446-0469, G0470-0474, G0476-0479, H0483-0489, J0491-0493, J0495-0498

Status: Underutilized

Comments: off-site removal only; 168 sf. for each; safety shelter; relocation may be difficult due to poor conditions.

E0450-0457 &E0459

Property Number: 21201220047

Blue Grass Army Depot

Richmond KY 40475

Status: Underutilized

Comments: off-site removal only; 168 sf. for each; safety shelter; relocation may be difficult due to poor conditions.

D0440-D0449

Property Number: 21201220048

Blue Grass Army Depot

Richmond KY 40475

Status: Underutilized

Comments: off-site removal only; 168 sf. for each; safety shelter; relocation may be difficult due to poor conditions.

C0431-C0438

Property Number: 21201220049

Blue Grass Army Depot

Richmond KY 40475

Status: Underutilized

Comments: off-site removal only; 168 sf. for each; safety shelter; relocation may be difficult due to poor conditions.

B0420-B0429

Property Number: 21201220050

Blue Grass Army Depot

Richmond KY 40475

Status: Underutilized

Comments: off-site removal only; 168 sf. for each; safety shelter; relocation may be difficult due to poor conditions.

A0410-0419

Property Number: 21201220051

Blue Grass Army Depot

Richmond KY 40475

Status: Underutilized

Comments: off-site removal only; 168 sf. each; safety shelter; relocation may be difficult due to conditions of properties

15 Buildings

Property Number: 21201230030

Ft. Knox

Ft. Knox KY 40121

Location: 2991, 3006, 6127, 7345, 7346, 9254, 9264, 9294, 9302, 9311, 9315, 9335, 9427, 9503, 9504

Status: Unutilized

Comments: use: maintenance; extremely poor conditions; contamination identified; contact Army for further details & accessibility requirements

10 Buildings

Property Number: 21201230031

Ft. Knox

Ft. Knox KY 40121

Location: 9505, 9506, 9507, 9508, 9509, 9617, 9675, 9681, 9706, 9707

Status: Unutilized

Comments: sf. varies; extremely poor conditions; contamination identified; contact Army for further details & accessibility requirements

LOUISIANA

BUILDING

Bldg. 8423, Fort Polk

Property Number: 21199640528

Ft. Polk Co: Vernon Parish LA 71459

Status: Underutilized

Comments: 4172 sq. ft., most recent use—barracks

B-8248

Property Number: 21201210069

Ft. Polk

Ft. Polk LA 71459

Status: Underutilized

Comments: 3,141 sf.; current use: Admin. Bldg.; poor conditions-need repairs

B-8401

Property Number: 21201210070

Ft. Polk

Ft. Polk LA 71459

Status: Underutilized

Comments: 3,141 sf.; current use: Admin. Bldg.; poor conditions-need repairs

21 Buildings

Property Number: 21201230034

Polk

Ft. Polk LA 71459

Location: 9515, 9537, 9554, 9570, 9593, 9594, 9601, 9602, 9603, 9604, 9607, 9609, 9618, 9619, 9666, 9703, 9741, 9744, 9751, 9753, 9755

Status: Underutilized

Comments: off-site removal only; sf. varies; use: varies; poor conditions; contact Army for further details re: a specific property

18 Buildings

Property Number: 21201230035

Polk

Ft. Polk LA 71459

Location: 9764, 9765, 9773, 9793, 9794, 9797, 9803, 9812, 9818, 9830, 9836, 9837, 9840, 9854, 9913, 9914, 9917, 9920

Status: Underutilized

Comments: off-site removal only; sq. ft. varies; use: varies; poor conditions; contact Army for further details re: a specific property

MARYLAND

BUILDING

Bldg. 0459B

Property Number: 21200120106

Aberdeen Proving Ground

Aberdeen Co: Harford MD 21005-5001

Status: Unutilized

Comments: 225 sq. ft., poor condition, most recent use—equipment bldg., off-site use only

Bldg. 00785

Property Number: 21200120107

Aberdeen Proving Ground

Aberdeen Co: Harford MD 21005-5001

Status: Unutilized

Comments: 160 sq. ft., poor condition, most recent use—shelter, off-site use only

Bldg. E5239

Property Number: 21200120113

Aberdeen Proving Ground

Aberdeen Co: Harford MD 21005-5001

Status: Unutilized

Comments: 230 sq. ft., most recent use—storage, off-site use only

Bldg. E5317

Property Number: 21200120114

Aberdeen Proving Ground

Aberdeen Co: Harford MD 21005-5001

Status: Unutilized

Comments: 3158 sq. ft., presence of asbestos/lead paint, most recent use—lab, off-site use only

Bldg. E5637

Property Number: 21200120115

Aberdeen Proving Ground

Aberdeen Co: Harford MD 21005-5001

Status: Unutilized

Comments: 312 sq. ft., presence of asbestos/lead paint, most recent use—lab, off-site use only

Bldg. 219

Property Number: 21200140078

Ft. George G. Meade

Ft. Meade Co: Anne Arundel MD 20755

Status: Unutilized

Comments: 8142 sq. ft., presence of asbestos/lead paint, most recent use—admin., off-site use only

Bldg. 00375

Property Number: 21200320107

Aberdeen Proving Grounds

Aberdeen Co: Harford MD 21005

Status: Unutilized

Comments: 64 sq. ft., most recent use—storage, off-site use only

Bldg. 0385A

Property Number: 21200320110

Aberdeen Proving Grounds

Aberdeen Co: Harford MD 21005

Status: Unutilized

Comments: 944 sq. ft., off-site use only

Bldg. 00523

Property Number: 21200320113

Aberdeen Proving Grounds

Aberdeen Co: Harford MD 21005

Status: Unutilized

Comments: 3897 sq. ft., most recent use—paint shop, off-site use only

Bldg. 0700B

Property Number: 21200320121

Aberdeen Proving Grounds

Aberdeen Co: Harford MD 21005

Status: Unutilized

Comments: 505 sq. ft., off-site use only

Bldg. 01113

Property Number: 21200320128

Aberdeen Proving Grounds

Aberdeen Co: Harford MD 21005

Status: Unutilized

Comments: 1012 sq. ft., off-site use only

Bldgs. 01124, 01132

Property Number: 21200320129

Aberdeen Proving Grounds

Aberdeen Co: Harford MD 21005

Status: Unutilized

Comments: 740/2448 sq. ft., most recent use—lab, off-site use only

Bldg. 03558

Property Number: 21200320133

Aberdeen Proving Grounds

Aberdeen Co: Harford MD 21005

Status: Unutilized

Comments: 18,000 sq. ft., most recent use—storage, off-site use only

Bldg. 05262

Property Number: 21200320136

Aberdeen Proving Grounds

Aberdeen Co: Harford MD 21005

Status: Unutilized

Comments: 864 sq. ft., most recent use—storage, off-site use only

Bldg. 05608

Property Number: 21200320137

Aberdeen Proving Grounds

Aberdeen Co: Harford MD 21005

Status: Unutilized

Comments: 1100 sq. ft., most recent use—maint bldg., off-site use only

Bldg. E5645

Property Number: 21200320150

Aberdeen Proving Grounds

Aberdeen Co: Harford MD 21005

Status: Unutilized

Comments: 548 sq. ft., most recent use—storage, off-site use only

Bldg. 00435

Property Number: 21200330111

Aberdeen Proving Grounds

Aberdeen Co: Harford MD 21005

Status: Unutilized

Comments: 1191 sq. ft., needs rehab, most recent use—storage, off-site use only

Bldg. 0449A

Property Number: 21200330112

Aberdeen Proving Grounds

Aberdeen Co: Harford MD 21005

Status: Unutilized

Comments: 143 sq. ft., needs rehab, most recent use—substation switch bldg., off-site use only

Bldg. 0460

Property Number: 21200330114

Aberdeen Proving Grounds

Aberdeen Co: Harford MD 21005

Status: Unutilized

Comments: 1800 sq. ft., needs rehab, most recent use—electrical EQ bldg., off-site use only

Bldg. 00914

Property Number: 21200330118

Aberdeen Proving Grounds

Aberdeen Co: Harford MD 21005

Status: Unutilized

Comments: needs rehab, most recent use—safety shelter, off-site use only

Bldg. 00915

Property Number: 21200330119

Aberdeen Proving Grounds

Aberdeen Co: Harford MD 21005

Status: Unutilized

Comments: 247 sq. ft., needs rehab, most recent use—storage, off-site use only

Bldg. 01189

Property Number: 21200330126

Aberdeen Proving Grounds

Aberdeen Co: Harford MD 21005

Status: Unutilized

Comments: 800 sq. ft., needs rehab, most recent use—range bldg., off-site use only

Bldg. E1413

Property Number: 21200330127

Aberdeen Proving Grounds

Aberdeen Co: Harford MD 21005

Status: Unutilized

Comments: needs rehab, most recent use—observation tower, off-site use only

Bldg. E3175

Property Number: 21200330134

Aberdeen Proving Grounds

Aberdeen Co: Harford MD 21005

Status: Unutilized

Comments: 1296 sq. ft., needs rehab, most recent use—hazard bldg., off-site use only

4 Bldgs.

Property Number: 21200330135

Aberdeen Proving Grounds

Aberdeen Co: Harford MD 21005

Location: E3224, E3228, E3230, E3232, E3234

Status: Unutilized

Comments: sq. ft. varies, needs rehab, most recent use—lab test bldgs., off-site use only

Bldg. E3241

Property Number: 21200330136

Aberdeen Proving Grounds

Aberdeen Co: Harford MD 21005

Status: Unutilized

Comments: 592 sq. ft., needs rehab, most recent use—medical res bldg., off-site use only

Bldg. E3300

Property Number: 21200330139

Aberdeen Proving Grounds

Aberdeen Co: Harford MD 21005

Status: Unutilized

Comments: 44,352 sq. ft., needs rehab, most recent use—chemistry lab, off-site use only

Bldg. E3335

Property Number: 21200330144

Aberdeen Proving Grounds

Aberdeen Co: Harford MD 21005

Status: Unutilized

Comments: 400 sq. ft., needs rehab, most recent use—storage, off-site use only

Bldgs. E3360, E3362, E3464

Property Number: 21200330145

Aberdeen Proving Grounds

Aberdeen Co: Harford MD 21005

Status: Unutilized

Comments: 3588/236 sq. ft., needs rehab, most recent use—storage, off-site use only

Bldg. E3542

Property Number: 21200330148

Aberdeen Proving Grounds

Aberdeen Co: Harford MD 21005

Status: Unutilized

Comments: 1146 sq. ft., needs rehab, most recent use—lab test bldg., off-site use only

Bldg. E4420

Property Number: 21200330151

Aberdeen Proving Grounds

Aberdeen Co: Harford MD 21005

Status: Unutilized

Comments: 14,997 sq. ft., needs rehab, most recent use—police bldg., off-site use only

4 Bldgs.

Property Number: 21200330154

Aberdeen Proving Grounds

Aberdeen Co: Harford MD 21005

Location: E5005, E5049, E5050, E5051

Status: Unutilized

Comments: sq. ft. varies, needs rehab, most recent use—storage, off-site use only

Bldg. E5068

Property Number: 21200330155

Aberdeen Proving Grounds

Aberdeen Co: Harford MD 21005

Status: Unutilized

Comments: 1200 sq. ft., needs rehab, most recent use—fire station, off-site use only

Bldgs. 05448, 05449

Property Number: 21200330161

Aberdeen Proving Grounds

Aberdeen Co: Harford MD 21005

Status: Unutilized

Comments: 6431 sq. ft., needs rehab, most recent use—enlisted UHP, off-site use only

Bldg. 05450

Property Number: 21200330162

Aberdeen Proving Grounds

Aberdeen Co: Harford MD 21005

Status: Unutilized

Comments: 2730 sq. ft., needs rehab, most recent use—admin., off-site use only

Bldgs. 05451, 05455

Property Number: 21200330163

Aberdeen Proving Grounds

Aberdeen Co: Harford MD 21005

Status: Unutilized

Comments: 2730/6431 sq. ft., needs rehab, most recent use—storage, off-site use only

Bldg. 05453

Property Number: 21200330164

Aberdeen Proving Grounds

Aberdeen Co: Harford MD 21005

Status: Unutilized

Comments: 6431 sq. ft., needs rehab, most recent use—admin., off-site use only

Bldg. E5609

Property Number: 21200330167

Aberdeen Proving Grounds

Aberdeen Co: Harford MD 21005

Status: Unutilized

Comments: 2053 sq. ft., needs rehab, most recent use—storage, off-site use only

Bldg. E5611 Property Number: 21200330168

Aberdeen Proving Grounds

Aberdeen Co: Harford MD 21005

Status: Unutilized

Comments: 11,242 sq. ft., needs rehab, most recent use—hazard bldg., off-site use only

Bldg. E5634

Property Number: 21200330169

Aberdeen Proving Grounds

Aberdeen Co: Harford MD 21005

Status: Unutilized

Comments: 200 sq. ft., needs rehab, most recent use—flammable storage, off-site use only

Bldg. E5654

Property Number: 21200330171

Aberdeen Proving Grounds

Aberdeen Co: Harford MD 21005

Status: Unutilized

Comments: 21,532 sq. ft., needs rehab, most recent use—storage, off-site use only

Bldg. E5942

Property Number: 21200330176

Aberdeen Proving Grounds

Aberdeen Co: Harford MD 21005

Status: Unutilized

Comments: 2147 sq. ft., needs rehab, most recent use—igloo storage, off-site use only

Bldgs. E5952, E5953

Property Number: 21200330177

Aberdeen Proving Grounds

Aberdeen Co: Harford MD 21005

Status: Unutilized

Comments: 100/24 sq. ft., needs rehab, most recent use—compressed air bldg., off-site use only

Bldgs. E7401, E7402

Property Number: 21200330178

Aberdeen Proving Grounds

Aberdeen Co: Harford MD 21005

Status: Unutilized

Comments: 256/440 sq. ft., needs rehab, most recent use—storage, off-site use only

Bldg. E7407, E7408

Property Number: 21200330179

Aberdeen Proving Grounds

Aberdeen Co: Harford MD 21005

Status: Unutilized

Comments: 1078/762 sq. ft., needs rehab, most recent use—decon facility, off-site use only

Bldg. 3070A

Property Number: 21200420055

Aberdeen Proving Ground

Harford MD 21005

Status: Unutilized

Comments: 2299 sq. ft., most recent use—heat plant, off-site use only

Bldg. E5026

Property Number: 21200420056

Aberdeen Proving Ground

Harford MD 21005

Status: Unutilized

Comments: 20,536 sq. ft., most recent use—storage, off-site use only

Bldg. 05261

Property Number: 21200420057

Aberdeen Proving Ground

Harford MD 21005

Status: Unutilized

Comments: 10067 sq. ft., most recent use—maintenance, off-site use only

Bldg. E5876

Property Number: 21200440073

Aberdeen Proving Grounds

Aberdeen Co: Harford MD 21005

Status: Unutilized

Comments: 1192 sq. ft., needs rehab, most recent use—storage, off-site use only

Bldg. 00688

Property Number: 21200530080

Aberdeen Proving Ground

Aberdeen Co: Harford MD 21005

Status: Unutilized

Comments: 24,192 sq. ft., most recent use—ammo, off-site use only

Bldg. 04925

Property Number: 21200540091

Aberdeen Proving Ground

Aberdeen Co: Harford MD 21005

Status: Unutilized

Comments: 1326 sq. ft., off-site use only

Bldg. 00255

Property Number: 21200720052

Aberdeen Proving Ground

Harford MD 21005

Status: Unutilized

Comments: 64 sq. ft., most recent use—storage, off-site use only

Bldg. 00638

Property Number: 21200720053

Aberdeen Proving Ground

Harford MD 21005

Status: Unutilized

Comments: 4295 sq. ft., most recent use—storage, off-site use only

Bldg. 00721

Property Number: 21200720054

Aberdeen Proving Ground

Harford MD

Status: Unutilized

Comments: 135 sq. ft., most recent use—storage, off-site use only

Bldgs. 00936, 00937

Property Number: 21200720055

Aberdeen Proving Ground

Harford MD 21005

Status: Unutilized

Comments: 2000 sq. ft., most recent use—storage, off-site use only

Bldgs. E1410, E1434

Property Number: 21200720056

Aberdeen Proving Ground

Harford MD 21005

Status: Unutilized

Comments: 2276/3106 sq. ft., most recent use—laboratory, off-site use only

Bldg. 03240

Property Number: 21200720057

Aberdeen Proving Ground

Harford MD 21005

Status: Unutilized

Comments: 10,049 sq. ft., most recent use—office, off-site use only

Bldg. E3834

Property Number: 21200720058

Aberdeen Proving Ground

Harford MD 21005

Status: Unutilized

Comments: 72 sq. ft., most recent use—office, off-site use only

Bldgs. E4465, E4470, E4480

Property Number: 21200720059

Aberdeen Proving Ground

Harford MD 21005

Status: Unutilized

Comments: 17658/16876/17655 sq. ft., most recent use—office, off-site use only

Bldgs. E5137, 05219

Property Number: 21200720060

Aberdeen Proving Ground

Harford MD 21005

Status: Unutilized

Comments: 3700/8175 sq. ft., most recent use—office, off-site use only

Bldg. E5236

Property Number: 21200720061

Aberdeen Proving Ground

Harford MD 21005

Status: Unutilized

Comments: 10,325 sq. ft., most recent use—storage, off-site use only

Bldg. E5282

Property Number: 21200720062

Aberdeen Proving Ground

Harford MD 21005

Status: Unutilized

Comments: 4820 sq. ft., most recent use—hazard bldg., off-site use only

Bldgs. E5736, E5846, E5926

Property Number: 21200720063

Aberdeen Proving Ground

Harford MD 21005

Status: Unutilized

Comments: 1069/4171/11279 sq. ft., most recent use—storage, off-site use only

Bldg. E6890

Property Number: 21200720064

Aberdeen Proving Ground

Harford MD 21005

Status: Unutilized

Comments: 1 sq. ft., most recent use—impact area, off-site use only

Bldg. 00310

Property Number: 21200820077

Aberdeen Proving Ground

Harford MD 21005

Status: Unutilized

Comments: 56516 sq. ft., most recent use—admin., off-site use only

Bldg. 00315

Property Number: 21200820078

Aberdeen Proving Ground

Harford MD

Status: Unutilized

Comments: 74396 sq. ft., most recent use—mach shop, off-site use only

Bldg. 00338

Property Number: 21200820079

Aberdeen Proving Ground

Harford MD

Status: Unutilized

Comments: 45443 sq. ft., most recent use—gnd tran eqp, off-site use only

Bldg. 00360

Property Number: 21200820080

Aberdeen Proving Ground

Harford MD

Status: Unutilized

Comments: 15287 sq. ft., most recent use—general inst., off-site use only

Bldg. 00445

Property Number: 21200820081

Aberdeen Proving Ground

Harford MD

Status: Unutilized

Comments: 6367 sq. ft., most recent use—lab, off-site use only

Bldg. 00851

Property Number: 21200820082

Aberdeen Proving Ground

Harford MD

Status: Unutilized

Comments: 694 sq. ft., most recent use—range bldg., off-site use only

E1043

Property Number: 21200820083

Aberdeen Proving Ground

Harford MD

Status: Unutilized

Comments: 5200 sq. ft., most recent use—lab, off-site use only

Bldg. 01089

Property Number: 21200820084

Aberdeen Proving Ground

Harford MD

Status: Unutilized

Comments: 12369 sq. ft., most recent use—vehicle maint, off-site use only

Bldg. 01091

Property Number: 21200820085

Aberdeen Proving Ground

Harford MD

Status: Unutilized

Comments: 2201 sq. ft., most recent use—storage, off-site use only

Bldg. E1386

Property Number: 21200820086

Aberdeen Proving Ground

Harford MD

Status: Unutilized

Comments: 251 sq. ft., most recent use—eng/mnt, off-site use only

5 Bldgs.

Property Number: 21200820087

Aberdeen Proving Ground

Harford MD

Location: E1440, E1441, E1443, E1445, E1455

Status: Unutilized

Comments: 112 sq. ft., most recent use—safety shelter, off-site use only

Bldgs. E1467, E1485

Property Number: 21200820088

Aberdeen Proving Ground

Harford MD

Status: Unutilized

Comments: 160/800 sq. ft., most recent use—storage, off-site use only

Bldg. E1521

Property Number: 21200820090

Aberdeen Proving Ground

Harford MD

Status: Unutilized

Comments: 1200 sq. ft., most recent use—overhead protection, off-site use only

Bldg. E1570

Property Number: 21200820091

Aberdeen Proving Ground

Harford MD

Status: Unutilized

Comments: 47027 sq. ft., most recent use—office, off-site use only

Bldg. E1572

Property Number: 21200820092

Aberdeen Proving Ground

Harford MD

Status: Unutilized

Comments: 1402 sq. ft., most recent use—maint. off-site use only

4 Bldgs.

Property Number: 21200820093

Aberdeen Proving Ground

Harford MD

Location: E1645, E1675, E1677, E1930

Status: Unutilized

Comments: various sq. ft., most recent use—office, off-site use only

Bldgs. E2160, E2184, E2196

Property Number: 21200820094

Aberdeen Proving Ground

Harford MD

Status: Unutilized

Comments: 12440/13816 sq. ft., most recent use—storage, off-site use only

Bldg. E2174

Property Number: 21200820095

Aberdeen Proving Ground

Harford MD

Status: Unutilized

Comments: 132 sq. ft., off-site use only

Bldgs. 02208, 02209

Property Number: 21200820096

Aberdeen Proving Ground

Harford MD

Status: Unutilized

Comments: 11566/18085 sq. ft., most recent use—lodging, off-site use only

Bldg. 02353

Property Number: 21200820097

Aberdeen Proving Ground

Harford MD

Status: Unutilized

Comments: 19252 sq. ft., most recent use—vehicle maint, off-site use only

Bldgs. 02482, 02484

Property Number: 21200820098

Aberdeen Proving Ground

Harford MD

Status: Unutilized

Comments: 8359 sq. ft., most recent use—gen purp, off-site use only

Bldg. 02483

Property Number: 21200820099

Aberdeen Proving Ground

Harford MD

Status: Unutilized

Comments: 1360 sq. ft., most recent use—heat plt, off-site use only

Bldgs. 02504, 02505

Property Number: 21200820100

Aberdeen Proving Ground

Harford MD

Status: Unutilized

Comments: 11720/17434 sq. ft., most recent use—lodging, off-site use only

Bldgs. 02831, E3488

Property Number: 21200820101

Aberdeen Proving Ground

Harford MD

Status: Unutilized

Comments: 576/64 sq. ft., most recent use—access cnt fac, off-site use only

Bldg. 2831A

Property Number: 21200820102

Aberdeen Proving Ground

Harford MD

Status: Unutilized

Comments: 1200 sq. ft., most recent use—overhead protection, off-site use only

Bldg. 03320

Property Number: 21200820103

Aberdeen Proving Ground

Harford MD

Status: Unutilized

Comments: 10600 sq. ft., most recent use—admin, off-site use only

Bldg. E3466

Property Number: 21200820104

Aberdeen Proving Ground

Aberdeen MD

Status: Unutilized

Comments: 236 sq. ft., most recent use—protective barrier, off-site use only

4 Bldgs.

Property Number: 21200820105

Aberdeen Proving Ground

Harford MD

Location: E3510, E3570, E3640, E3832

Status: Unutilized

Comments: various sq. ft., most recent use—lab, off-site use only

Bldg. E3544

Property Number: 21200820106

Aberdeen Proving Ground

Harford MD

Status: Unutilized

Comments: 5400 sq. ft., most recent use—ind waste, off-site use only

Bldgs. E3561, 03751

Property Number: 21200820107

Aberdeen Proving Ground

Harford MD

Status: Unutilized

Comments: 64/189 sq. ft., most recent use—access cnt fac, off-site use only

Bldg. 03754

Property Number: 21200820108

Aberdeen Proving Ground

Harford MD

Status: Unutilized

Comments: 324 sq. ft., most recent use—classroom, off-site use only

Bldg. 3823A

Property Number: 21200820109

Aberdeen Proving Ground

Harford MD

Status: Unutilized

Comments: 113 sq. ft., most recent use—shed, off-site use only

Bldg. E3948

Property Number: 21200820110

Aberdeen Proving Ground

Harford MD

Status: Unutilized

Comments: 3420 sq. ft., most recent use—emp chg fac, off-site use only

4 Bldgs.

Property Number: 21200820111

Aberdeen Proving Ground

Harford MD

Location: E5057, E5058, E5246, 05258

Status: Unutilized

Comments: various sq. ft., most recent use—storage, off-site use only

Bldgs. E5106, 05256

Property Number: 21200820112

Aberdeen Proving Ground

Harford MD

Status: Unutilized

Comments: 18621/8720 sq. ft., most recent use—office, off-site use only

Bldg. E5126

Property Number: 21200820113

Aberdeen Proving Ground

Harford MD

Status: Unutilized

Comments: 17664 sq. ft., most recent use—heat plt, off-site use only

Bldg. E5128

Property Number: 21200820114

Aberdeen Proving Ground

Harford MD

Status: Unutilized

Comments: 3750 sq. ft., most recent use—substation, off-site use only

Bldg. E5188

Property Number: 21200820115

Aberdeen Proving Ground

Harford MD

Status: Unutilized

Comments: 22790 sq. ft., most recent use—lab, off-site use only

Bldg. E5179

Property Number: 21200820116

Aberdeen Proving Ground

Harford MD

Status: Unutilized

Comments: 47335 sq. ft., most recent use—info sys, off-site use only

Bldg. E5190

Property Number: 21200820117

Aberdeen Proving Ground

Harford MD

Status: Unutilized

Comments: 874 sq. ft., most recent use—storage, off-site use only

Bldg. 05223

Property Number: 21200820118

Aberdeen Proving Ground

Harford MD

Status: Unutilized

Comments: 6854 sq. ft., most recent use—gen rep inst, off-site use only

Bldgs. 05259, 05260

Property Number: 21200820119

Aberdeen Proving Ground

Harford MD

Status: Unutilized

Comments: 10067 sq. ft., most recent use—maint, off-site use only

Bldgs. 05263, 05264

Property Number: 21200820120

Aberdeen Proving Ground

Harford MD

Status: Unutilized

Comments: 200 sq. ft., most recent use—org space, off-site use only

5 Bldgs.

Property Number: 21200820121

Aberdeen Proving Ground

Harford MD

Location: 05267, E5294, E5327, E5441, E5485

Status: Unutilized

Comments: various sq. ft., most recent use—storage, off-site use only

Bldg. E5292

Property Number: 21200820122

Aberdeen Proving Ground

Harford MD

Status: Unutilized

Comments: 1166 sq. ft., most recent use—comp rep inst, off-site use only

Bldg. E5380

Property Number: 21200820123

Aberdeen Proving Ground

Harford MD

Status: Unutilized

Comments: 9176 sq. ft., most recent use—lab, off-site use only

Bldg. E5452

Property Number: 21200820124

Aberdeen Proving Ground

Harford MD

Status: Unutilized

Comments: 9623 sq. ft., off-site use only

Bldg. 05654

Property Number: 21200820125

Aberdeen Proving Ground

Harford MD

Status: Unutilized

Comments: 38 sq. ft. most recent use—shed, off-site use only

Bldg. 05656

Property Number: 21200820126

Aberdeen Proving Ground

Harford MD

Status: Unutilized

Comments: 2240 sq. ft., most recent use—overhead protection off-site use only

5 Bldgs.

Property Number: 21200820127

Aberdeen Proving Ground

Harford MD

Location: E5730, E5738, E5915, E5928, E6875

Status: Unutilized

Comments: various sq. ft., most recent use—storage, off-site use only

Bldg. E5840

Property Number: 21200820129

Aberdeen Proving Ground

Harford MD

Status: Unutilized

Comments: 14200 sq. ft., most recent use—lab, off-site use only

Bldg. E5946

Property Number: 21200820130

Aberdeen Proving Ground

Harford MD

Status: Unutilized

Comments: 2147 sq. ft., most recent use—igloo str, off-site use only

Bldg. E6872

Property Number: 21200820131

Aberdeen Proving Ground

Harford MD

Status: Unutilized

Comments: 1380 sq. ft., most recent use—dispatch, off-site use only

Bldgs. E7331, E7332, E7333

Property Number: 21200820132

Aberdeen Proving Ground

Harford MD

Status: Unutilized

Comments: most recent use—protective barrier, off-site use only

Bldg. E7821

Property Number: 21200820133

Aberdeen Proving Ground

Harford MD

Status: Unutilized

Comments: 3500 sq. ft., most recent use—xmitter bldg., off-site use only

Bldg. 02483

Property Number: 21200920025

Aberdeen Proving Ground

Harford MD 21005

Status: Unutilized

Comments: 1360 sq. ft., most recent use—heat plt bldg., off-site use only

Bldg. 03320

Property Number: 21200920026

Aberdeen Proving Ground

Harford MD 21005

Status: Unutilized

Comments: 10,600 sq. ft., most recent use—admin., off-site use only

Bldg. 06186

Property Number: 21201110026

Ft. Detrick

Fredrick MD 21702

Status: Unutilized

Comments: off-site removal only, 14,033 sq. ft., current use: communications ctr., bldg. not energy efficient but fair condition

Bldg. 01692

Property Number: 21201110028

Ft. Detrick

Fredrick MD 21702

Status: Unutilized

Comments: off-site removal only, 1,000 sq. ft., current use; communications ctr., bldg. is not energy efficient but in fair condition

10 Bldgs.

Property Number: 21201210016

Aberdeen Proving Ground

Aberdeen MD 21005

Location: E3266, E3268, E3269, E3299, E3300, E3305, E3306, E3326, E3344, E3500

Status: Unutilized

Comments: off-site removal only; sq. ft. varies; current use: varies; lead and asbestos identified; moderate conditions

10 Bldgs.

Property Number: 21201210017

Aberdeen Proving Ground

Aberdeen MD 21005

Location: E3507, E3514, E3516, E3520, E3522, E3524, E3525, E3549, E3550, E3552

Status: Unutilized

Comments: off-site removal only; sq. ft. varies; current use: varies; lead and asbestos identified; moderate conditions

10 Bldgs.

Property Number: 21201210018

Aberdeen Proving Ground

Aberdeen MD 21005

Location: E3570, E3573, E3607, E3615, E3623, E3646, E4405, E4410, E4415, E4420

Status: Unutilized

Comments: off-site removal only; sq. ft. varies; current use: varies; lead and asbestos identified; moderate conditions

11 Bldgs.

Property Number: 21201210019

Aberdeen Proving Ground

Aberdeen MD 21005

Location: E4430, E4435, E4440, E4445, E4460, E4465, E4470, E4475, E4480, E5027

Status: Unutilized

Comments: off-site removal only; sq. ft. varies; current use: varies; lead and asbestos identified; moderate conditions

10 Bldgs.

Property Number: 21201210020

Aberdeen Proving ground

Aberdeen MD 21005

Location: E5106, E5135, E5141, E5158, E5164, E5165, E5188, E5342, E5354, E5356

Status: Unutilized

Comments: off-site removal only; sq. ft. varies; current use: varies; lead and asbestos identified; moderate conditions

9 Bldgs.

Property Number: 21201210021

Aberdeen Proving Ground

Aberdeen MD 21005

Location: E5365, E5425, E5427, E5429, E5643, E5684, E5686, E5687, E5725

Status: Unutilized

Comments: off-site removal only; sq. ft. varies; current use: varies; lead and asbestos identified; moderate conditions

9 Bldgs.

Property Number: 21201210022

Aberdeen Proving Ground

Aberdeen MD 21005

Location: E5771, E5772, E5774, E5779, E5782, E5800, E5804, E5824, E5872

Status: Unutilized

Comments: off-site removal only; sq. ft. varies; current use: varies; lead and asbestos identified; moderate conditions

7 Bldgs.

Property Number: 21201210023

Aberdeen Proving Ground

Aberdeen MD 21005

Location: E5910, E5911, E5912, E5913, E5914, E5932, E5940

Status: Unutilized

Comments: off-site removal only; sq. ft. varies; current use: varies; lead and asbestos identified; moderate conditions

7 Bldgs.

Property Number: 21201210024

Aberdeen Proving Ground

Aberdeen MD 21005

Location: E5944, E5950, E6834, RAILA, RAILE, 02043, E5722

Status: Unutilized

Comments: off-site removal only; sq. ft. varies; current use: varies; lead and asbestos identified; moderate conditions

13 Bldgs.

Property Number: 21201210025

Aberdeen Proving Ground

Aberdeen MD 21005

Location: 380, 440, 441, 464, 637, 724, 724A, 724D, 724E, 1101A, 2001, 2040, 2041

Status: Unutilized

Comments: off-site removal only; sq. ft. varies; current use: varies; lead and asbestos identified; moderate conditions

10 Bldgs.

Property Number: 21201210026

Aberdeen Proving Ground

Aberdeen MD 21005

Location: 2042, 2308, 2312, 2314, 2333, 2338, 2351, 2354, 2431, 2432

Status: Unutilized

Comments: off-site removal only; sq. ft. varies; current use: varies; lead and asbestos identified; moderate conditions

9 Bldgs.

Property Number: 21201210027

Aberdeen Proving Ground

Aberdeen MD 21005

Location: 2453, 2457, 2458, 3409, 3410, 3554, 4031, 4035, 4036

Status: Unutilized

Comments: off-site removal only; sq. ft. varies; current use: varies; lead and asbestos identified; moderate conditions

13 Bldgs.

Property Number: 21201210028

Aberdeen Proving Ground

Aberdeen MD 21005

Location: E3236, E3107, E3109, E3156, E3221, E3222, E3223, E3224, E3226, E3230, E3232, E3234, E3265

Status: Unutilized

Comments: off-site removal only; sq. ft. varies; current use: varies; lead and asbestos identified; moderate conditions

8 Bldgs.

Property Number: 21201210029

Aberdeen Proving Ground

Aberdeen MD 21005

Location: E1890, E1936, E1946, E1950, E1958, E2100, E2101, E2105

Status: Unutilized

Comments: off-site removal only; sq. ft. varies; current use: varies; lead and asbestos identified; moderate conditions

11 Bldgs.

Property Number: 21201210030

Aberdeen Proving Ground

Aberdeen MD 21005

Location: E2309, E2400, E2580, E3081, E3083, E3100, E3101, E3103, E3104, E3105, E3106

Status: Unutilized

Comments: off-site removal only; sq. ft. varies; current use: varies; lead and asbestos identified; moderate conditions

5 Bldgs.

Property Number: 21201210031

Aberdeen Proving Ground

Aberdeen MD 21005

Location: 4302, 4303, 4316, 4317, E1607

Status: Unutilized

Comments: off-site removal only; sq. ft. varies; current use: varies; lead and asbestos identified; moderate conditions

Bldg. 00402

Property Number: 21201210056

402 Blossom Point Rd.

Welcome Co: Charles MD 20693

Status: Unutilized

Comments: Off site removal only; recent use: storage; 54 sq. ft.

Bldg. 00517

Property Number: 21201210057

517 Blossom Point Rd.

Welcome Co: Charles MD 20693

Status: Unutilized

Comments: off-site removal only; 110 sf.; current use: range bldg.; need repairs

Bldg. 00603

Property Number: 21201210058

Adelphi Laboratory Center

Adelphi Co: Montgomery MD 20783

Status: Unutilized

Comments: off-site removal; 640 sf.; current use: storage; need repairs

Bldg. 604

Property Number: 21201210060

Adelphi Laboratory Center

Adelphi MD 20783

Status: Unutilized

Comments: off-site removal only; 375 sf.; current use: storage; need repairs

Bldg. 724B

Property Number: 21201220003

Aberdeen Proving Ground

Aberdeen MD 21005

Status: Unutilized

Comments: off-site removal only; 1 sf.; current use: safety shelter; moderate conditions; lead & asbestos identified; need remediation

4 Buildings

Property Number: 21201240001

Aberdeen Proving Ground

Aberdeen MD 21005

Location: 3409, 3410, E3615, RAILR

Status: Unutilized

Comments: off-site removal only; sf. varies; moderate conditions; located w/in secured area; contact Army on accessibility/removal and specific details on a property

LAND

2 acres

Property Number: 21200640095

Fort Meade

Odenton Rd/Rt 175

Ft. Meade MD 20755

Status: Unutilized

Comments: light industrial

16 acres

Property Number: 21200640096

Fort Meade

Rt 198/Airport Road

Ft. Meade MD 20755

Status: Unutilized

Comments: light industrial

MINNESOTA

BUILDING

18 Bldgs.

Property Number: 21201210059

1245 Hwy 96 West

Arden Hills Army TRNG Site

Arden Hills MN 55112

Location: 12155, 12156, 12157, 01200, 01201, 01202, 01203, 01204, 01205, 01206, 04202, 11218, 11219, 11220, 11221, 11222, 11223, 04203

Status: Unutilized

Comments: off-site removal only; sf. varies; current use: storage; poor conditions-need repairs

MISSOURI

BUILDING

Bldg. T1497

Property Number: 21199420441

Fort Leonard Wood

Ft. Leonard Wood Co: Pulaski MO 65473-5000

Status: Underutilized

Comments: 4720 sq. ft., 2-story, presence of lead base paint, most recent use—admin/gen. purpose, off-site use only

Bldg. T2139

Property Number: 21199420446

Fort Leonard Wood

Ft. Leonard Wood Co: Pulaski MO 65473-5000

Status: Underutilized

Comments: 3663 sq. ft., 1-story, presence of lead base paint, most recent use—admin/gen. purpose, off-site use only

Bldg. T2385

Property Number: 21199510115

Fort Leonard Wood

Ft. Leonard Wood Co: Pulaski MO 65473

Status: Excess

Comments: 3158 sq. ft., 1-story, wood frame, most recent use—admin., to be vacated 8/95, off-site use only

Bldg. 2167

Property Number: 21199820179

Fort Leonard Wood

Ft. Leonard Wood Co: Pulaski MO 65473-5000

Status: Unutilized

Comments: 1296 sq. ft., presence of asbestos/lead paint, most recent use—admin., off-site use only

Bldgs. 2192, 2196, 2198

Property Number: 21199820183

Fort Leonard Wood

Ft. Leonard Wood Co: Pulaski MO 65473-5000

Status: Unutilized

Comments: 4720 sq. ft., presence of asbestos/lead paint, most recent use—barracks, off-site use only

12 Bldgs.

Property Number: 21200410110

Fort Leonard Wood

Ft. Leonard Wood Co: Pulaski MO 65743-8944

Location: 07036, 07050, 07054, 07102, 07400, 07401, 8245, 08249 08251, 08255, 08257, 08261.

Status: Unutilized

Comments: 7152 sq. ft. 6 duplex housing quarters, potential contaminants, off-site use only.

6 Bldg.

Property Number: 21200410111

Fort Leonard Wood

Ft. Leonard Wood Co: Pulaski MO 65743-8944

Location: 07044, 07106, 07107, 08260, 08281, 08300

Status: Unutilized

Comments: 9520 sq. ft., 8 duplex housing quarters, potential contaminants, off-site use only.

15 Bldgs.

Property Number: 21200410112

Fort Leonard Wood

Ft. Leonard Wood Co: Pulaski MO 65743-8944

Location: 08242, 08243, 08246-08248, 08250, 08252-08254, 08256, 08258-08259, 08262-08263, 08265

Status: Unutilized

Comments: 4784 sq. ft., 4 duplex housing quarters, potential contaminants, off-site use only.

Bldgs. 08283, 08285

Property Number: 21200410113

Fort Leonard Wood

Ft. Leonard Wood Co: Pulaski MO 65743-8944

Status: Unutilized

Comments: 2240 sq. ft., 2 duplex housing quarters, potential contaminants, off-site use only

15 Bldgs.

Property Number: 21200410114

Fort Leonard Wood

Ft. Leonard Wood Co: Pulaski MO 65743-0827

Location: 08267, 08269, 08271, 08273, 08275, 08277, 08279, 08290 08296, 08301

Status: Unutilized

Comments: 4784 sq. ft., 4 duplex housing quarters, potential contaminants, off-site use only

Bldg. 09432

Property Number: 21200410115

Fort Leonard Wood

Ft. Leonard Wood Co: Pulaski MO 65743-8944

Status: Unutilized

Comments: 8724 sq. ft., 6-plex housing quarters, potential contaminants, off-site use only.

Bldgs. 5006 and 5013

Property Number: 21200430064

Fort Leonard Wood

Ft. Leonard Wood Co: Pulaski MO 65743-8944

Status: Unutilized

Comments: 192 sq. ft., needs repair, most recent use—generator bldg., off-site use only

Bldgs. 13210, 13710

Property Number: 21200430065

Fort Leonard Wood

Ft. Leonard Wood Co: Pulaski MO 65743-8944

Status: Unutilized

Comments: 144 sq. ft. each, needs repair, most recent use—communication, off-site use only

MONTANA

BUILDING

Bldg. 00405

Property Number: 21200130099

Fort Harrison

Ft. Harrison Co: Lewis/Clark MT 59636

Status: Unutilized

Comments: 3467 sq. ft., most recent use—storage, security limitations

Bldg. T0066

Property Number: 21200130100

Fort Harrison

Ft. Harrison Co: Lewis/Clark MT 59636

Status: Unutilized

Comments: 528 sq. ft., needs rehab, presence of asbestos, security limitations

Bldg. 00001

Property Number: 21200540093

Sheridan Hall USARC

Helena MT 59601

Status: Unutilized

Comments: 19,321 sq. ft., most recent use—Reserve Center

Bldg. 00003

Property Number: 21200540094

Sheridan Hall USARC

Helena MT 59601

Status: Unutilized

Comments: 1950 sq. ft., most recent use—maintenance/storage

NEW JERSEY

BUILDING

17 Bldgs.

Property Number: 21201210033

Picatinny Arsenal

Dover NJ 07806

Location: 75A, 614A, 623A, 623B, 623C, 623D, 623E, 623F, 636C, 636D, 637A, 639A, 640B, 641B, 641E, 1222D, 3029D

Status: Unutilized

Comments: Off-site removal only; sq. ft. varies, current use: varies; poor conditions—need repairs; contamination-needs remediation.

7 Bldgs.

Property Number: 21201210038

Picatinny Arsenal

Dover NJ 07806

Location: 75, 99,281,332,614,615,623

Status: Unutilized

Comments: Off-site removal only; sq. ft. varies, current use: varies; poor conditions—need repairs; contamination-needs remediation.

4 Bldgs.

Property Number: 21201220011

Picatinny Arsenal

Dover NJ 07806

Location: 1179, 1179A, 1179C, 1179D

Status: Unutilized

Comments: off-site removal only; sf varies; usage varies; need repairs; contamination; remediation required; secured area; need prior approval to access property; contact Army for more details

4 Building

Property Number: 21201240026

Route 15 North

Picatinny Arsenal NJ 07806

Location: 3701,3702,3706,3709

Status: Unutilized

Comments: Off-site removal only, sq. varies, moderate conditions, restricted area; contact Army for information on accessibility removal and specific details on a particular property.

NEW MEXICO

BUILDING

Bldg. 34198

Property Number: 21200230062

White Sands Missile Range

Dona Ana NM 88002

Status: Excess

Comments: 107 sq. ft., most recent use—security, off-site use only

NEW YORK

BUILDING

Bldg.1227

Property Number: 21200440074

U.S. Military Academy

Highlands Co: Orange NY 10996-1592

Status: Unutilized

Comments: 3800 sq. ft., needs repair, possible asbestos/lead paint, most recent use—maintenance, off-site use only

Bldg. 2218

Property Number: 21200510067

Stewart Newburg USARC

New Windsor Co: Orange NY 12553-9000

Status: Unutilized

Comments: 32,000 sq. ft., poor condition, requires major repairs, most recent use—storage/services

7 Bldgs.

Property Number: 21200510068

Stewart Newburg USARC

New Windsor Co: Orange NY 12553-9000

Location: 2122, 2124, 2126, 2128, 2106, 2108, 2104

Status: Unutilized

Comments: sq. ft. varies, poor condition, needs major repairs, most recent use—storage/services

Bldg. 1230

Property Number: 21200940014

U.S. Army Garrison

Orange NY 10996

Status: Unutilized

Comments: 4538 sq. ft., possible asbestos/lead paint, most recent use—clubhouse, off-site use only

Bldg. 4802

Property Number: 21201010019

Fort Drum

Jefferson NY 13602

Status: Unutilized

Comments: 3300 sq. ft., most recent use—hdgts. facility, off-site use only

Bldgs. 4813

Property Number: 21201010020

Fort Drum

Jefferson NY 13602

Status: Unutilized

Comments: 750 sq. ft., most recent use—wash rack, off-site use only

Bldg. 4814

Property Number: 21201010021

Fort Drum

Jefferson NY 13602

Status: Unutilized

Comments: 2592 sq. ft., most recent use—item repair, off-site use only

Bldgs. 1240, 1255

Property Number: 21201010022

Fort Drum

Jefferson NY 13602

Status: Unutilized

Comments: various sq. ft., most recent use—vehicle maint. facility, off-site use only

6 Bldgs.

Property Number: 21201010023

Fort Drum

Jefferson NY 13602

Location: 1248, 1250, 1276, 2361, 4816, 4817

Status: Unutilized

Comments: various sq. ft., most recent use—storage, off-site use only

Bldg. 1050

Property Number: 21201010024

Fort Drum

Jefferson NY 13602

Status: Unutilized

Comments: 1493 sq. ft., most recent use—training, off-site use only

Bldg. 10791

Property Number: 21201010025

Fort Drum

Jefferson NY 13602

Status: Unutilized

Comments: 72 sq. ft., most recent use—smoking shelter, off-site use only

6 Bldgs.

Property Number: 21201110049

Ft. Drum

Watertown NY 13602

Location: 01000, 01001, 01003,01008,01010,01012

Status: Underutilized

Comments: off-site removal only, multiple bldgs. w/varies sq. ft., current use varies

21 Bldgs.

Property Number: 21201140026

Ft. Drum

Ft. Drum NY 13602

Location: 10280, 10281, 10282, 10283, 10284, 10285, 10286, 10288, 10289, 10290, 10291, 10503, 10504, 10505, 10506, 10590, 10591, 10592, 10593, 10594, 10595

Status: Unutilized

Comments: off-site removal only; sq. ft. varies; current use: concrete pad

Bldg. 02713

Property Number: 21201140028

Ft. Drum

Ft. Drum NY 13602

Status: Underutilized

Comments: off-site removal only; 1,029 sq. ft.; need major repairs; current use: Administrative office

2 Bldgs.

Property Number: 21201140030

Ft. Drum

Ft. Drum NY 13602

Location: 1444 and 1445

Status: Underutilized

Comments: off-site removal only; bldg. 1444= 4,166 sq. ft.; bldg. 1445= 7,219 sq. ft.; current use: varies; need extensive repairs to both bldgs.

Bldgs.02700 and 22630

Property Number: 21201210080

Fort Drum

Fort Drum NY 13602

Status: Underutilized

Comments: off-site removal only; sf. varies; current use: varies; need repairs

Bldg. 1345

Property Number: 21201220030

Ft. Drum

Ft. Drum NY

Status: Underutilized

Comments: off-site removal only; 7,219 sf.; vehicle maint. shop. extensive repairs needed; secured area; need prior approval to access property

5 Properties

Property Number: 21201220031

Ft. Drum

Ft. Drum NY 13602

Location: BRG02, BRG19, BRG38, BRG62, BRG63

Status: Unutilized

Comments: off-site removal only; sf varies; bridge; poor conditions; needs repairs; secured area; prior approval needed to access properties

Building 191

Property Number: 21201230005

First Street West

Ft. Drum NY 13602

Status: Unutilized

Comments: off-site removal only; 5,922 sf.; use: Admin.; extensive structural damage; remediation required before occupying bldg.; secured area; contact Army to schedule appt. to access property

5 Buildings

Property Number: 21201230006

Ft. Drum

Ft. Drum NY 13601

Location: 1454, 1456,2443,4890,4893

Status: Unutilized

Comments: off-site removal only; sf. varies; use; varies; extensive repairs needed due to age; secured area; contact Army re: details on accessing property

Building 1560

Property Number: 21201240024

Rte. 293

West Point NY 10996

Status: Unutilized

Comments: off-site removal only, 4544 sf., storage severely damage from hurricane Irene, restricted area, contact Army on information on accessibility/removal.

Building 2104

Property Number: 21201240030

West Point

West Point NY 10996

Status: Unutilized

Comments: off-site removal only, 2,000 sf., office for red cross, good condition, restricted area, contact army on info. on accessibility/removal.

4 Buildings

Property Number: 21201240037

Ft. Drum

Ft. Drum NY 13602

Location: BRG28, 22374, 22354, 22254

Status: Unutilized

Comments: Off-site removal only, poor conditions, restricted area, contact Army for accessibility/removal & specific details on a property.

3 Buildings

Property Number: 21201240045

Ft. Drum

Ft. Drum NY 13602

Location: 2069,2080,21354

Status: Unutilized

Comments: off-site removal only, sf. varies, moderate deterioration, restricted area, contact Army for >information on accessibility/removal & specific details on a particular property

NORTH CAROLINA

BUILDING

Building 42843

Property Number: 21201240034

Ft. Bragg

Ft. Bragg NC 28310

Location: 42843

Status: Underutilized

Comments: Located in a secured area, public access is denied and no alternative method to gain access without compromising national security.

OHIO

BUILDING

125 Property Number: 21201230025

1155 Buckeye Rd.

Lima OH 45804

Location: Joint Systems Manufacturing Center

Status: Underutilized

Comments: off-site removal only; 2,284 sf.; use: storage; poor conditions; asbestos identified; secured area; contact Army re: accessibility requirements

LAND

Land

Property Number: 21200340094

Defense Supply Center

Columbus Co: Franklin OH 43216-5000

Status: Excess

Comments: 11 acres, railroad access

OKLAHOMA

BUILDING

Bldg. T-838, Fort Sill

Property Number: 21199220609

838 Macomb Road

Lawton Co: Comanche OK 73503-5100

Status: Unutilized

Comments: 151 sq. ft., wood frame, 1 story, off-site removal only, most recent use—vet facility (quarantine stable).

Bldg. T-954, Fort Sill

Property Number: 21199240659

954 Quinette Road

Lawton Co: Comanche OK 73503-5100

Status: Unutilized

Comments: 3571 sq. ft., 1 story wood frame, needs rehab, off-site use only, most recent use—motor repair shop.

Bldg. T-3325, Fort Sill

Property Number: 21199240681

3325 Naylor Road

Lawton Co: Comanche OK 73503-5100

Status: Unutilized

Comments: 8832 sq. ft., 1 story wood frame, needs rehab, off-site use only, most recent use—warehouse.

Bldg. T-4226

Property Number: 21199440384

Fort Sill

Lawton Co: Comanche OK 73503

Status: Unutilized

Comments: 114 sq. ft., 1-story wood frame, possible asbestos and lead paint, most recent use—storage, off-site use only

Bldg. P-1015,

Fort Sill Property Number: 21199520197

Lawton Co: Comanche OK 73501-5100

Status: Unutilized

Comments: 15402 sq. ft., 1-story, most recent use—storage, off-site use only

Bldg. P-366, Fort Sill

Property Number: 21199610740

Lawton Co: Comanche OK 73503

Status: Unutilized

Comments: 482 sq. ft., possible asbestos, most recent use—storage, off-site use only

Building P-5042

Property Number: 21199710066

Fort Sill

Lawton Co: Comanche OK 73503-5100

Status: Unutilized

Comments: 119 sq. ft., possible asbestos and lead paint, most recent use—heat plant, off-site use only

4 Buildings

Property Number: 21199710086

Fort Sill

Lawton Co: Comanche OK 73503-5100

Location:

T-6465, T-6466, T-6467, T-6468

Status: Unutilized

Comments: various sq. ft., possible asbestos and lead paint, most recent use—range support, off site use only

Bldg. T-810

Property Number: 21199730350

Fort Sill

Lawton Co: Comanche OK 73503-5100

Status: Unutilized

Comments: 7205 sq. ft., possible asbestos/lead paint, most recent use—hay storage, off-site use only

Bldgs. T-837, T-839

Property Number: 21199730351

Fort Sill

Lawton Co: Comanche OK 73503-5100

Status: Unutilized

Comments: approx. 100 sq. ft. each, possible asbestos/lead paint, most recent use—storage, offsite use only

Bldg. P-934

Property Number: 21199730353

Fort Sill

Lawton Co: Comanche OK 73503-5100

Status: Unutilized

Comments: 402 sq. ft., possible asbestos/lead paint, most recent use—storage, off-site use only

Bldgs. T-1468, T-1469

Property Number: 21199730357

Fort Sill

Lawton Co: Comanche OK 73503-5100

Status: Unutilized

Comments: 114 sq. ft., possible asbestos/lead paint, most recent use—storage, off-site use only

Bldg. T-1470

Property Number: 21199730358

Fort Sill

Lawton Co: Comanche OK 73503-5100

Status: Unutilized

Comments: 3120 sq. ft., possible asbestos/lead paint, most recent use—storage, off-site use only

Bldgs. T-1954, T-2022

Property Number: 21199730362

Fort Sill

Lawton Co: Comanche OK 73503-5100

Status: Unutilized

Comments: approx. 100 sq. ft. each, possible asbestos/lead paint, most recent use—storage, offsite use only

Bldg. T-2184

Property Number: 21199730364

Fort Sill

Lawton Co: Comanche OK 73503-5100

Status: Unutilized

Comments: 454 sq. ft., possible asbestos/lead paint, most recent use—storage, off-site use only

Bldgs. T-2186, T-2188, T-2189

Property Number: 21199730366

Fort Sill

Lawton Co: Comanche OK 73503-5100

Status: Unutilized

Comments: 1656—3583 sq. ft., possible asbestos/lead paint, most recent use—vehicle maint. shop, off-site use only

Bldg. T-2187

Property Number: 21199730367

Fort Sill

Lawton Co: Comanche OK 73503-5100

Status: Unutilized

Comments: 1673 sq. ft., possible asbestos/lead paint, most recent use—storage, off-site use only

Bldgs. T-2291 thru T-2296

Property Number: 21199730372

Fort Sill

Lawton Co: Comanche OK 73503-5100

Status: Unutilized

Comments: 400 sq. ft. each, possible asbestos/lead paint, most recent use—storage, off-site use only

Bldgs. T-3001, T-3006

Property Number: 21199730383

Fort Sill

Lawton Co: Comanche OK 73503-5100

Status: Unutilized

Comments: approx. 9300 sq. ft., possible asbestos/lead paint, most recent use—storage, off-site use only

Bldg. T-3314

Property Number: 21199730385

Fort Sill

Lawton Co: Comanche OK 73503-5100

Status: Unutilized

Comments: 229 sq. ft., possible asbestos/lead paint, most recent use—office, off-site use only

Bldg. T-5041

Property Number: 21199730409

Fort Sill

Lawton Co: Comanche OK 73503-5100

Status: Unutilized

Comments: 763 sq. ft., possible asbestos/lead paint, most recent use—storage, off-site use only

Comments: 763 sq. ft., possible asbestos/lead paint, most recent use—storage, off-site use only

Bldg. T-5420

Property Number: 21199730414

Fort Sill

Lawton Co: Comanche OK 73503-5100

Status: Unutilized

Comments: 189 sq. ft., possible asbestos/lead paint, most recent use—fuel storage, off-site use only

Bldg. T-7775

Property Number: 21199730419

Fort Sill

Lawton Co: Comanche OK 73503-5100

Status: Unutilized

Comments: 1452 sq. ft., possible asbestos/lead paint, most recent use—private club, off-site use only

4 Bldgs.

Property Number: 21199910133

Fort Sill

P-617, P-1114, P-1386, P-1608

Lawton Co: Comanche OK 73503-5100

Status: Unutilized

Comments: 106 sq. ft., possible asbestos/lead paint, most recent use—utility plant, off-site use only

Bldg. P-746

Property Number: 21199910135

Fort Sill

Lawton Co: Comanche OK 73503-5100

Status: Unutilized

Comments: 6299 sq. ft., possible asbestos/lead paint, most recent use—admin., off-site use only

Bldg. P-2582

Property Number: 21199910141

Fort Sill

Lawton Co: Comanche OK 73503-5100

Status: Unutilized

Comments: 3672 sq. ft., possible asbestos/lead paint, most recent use—admin., off-site use only

Bldg. P-2914

Property Number: 21199910146

Fort Sill

Lawton Co: Comanche OK 73503-5100

Status: Unutilized

Comments: 1236 sq. ft., possible asbestos/lead paint, most recent use—storage, off-site use only

Bldg. P-5101

Property Number: 21199910153

Fort Sill

Lawton Co: Comanche OK 73503-5100

Status: Unutilized

Comments: 82 sq. ft., possible asbestos/lead paint, most recent use—gas station, off-site use only

Bldg. S-6430

Property Number: 21199910156

Fort Sill

Lawton Co: Comanche OK 73503-5100

Status: Unutilized

Comments: 2080 sq. ft., possible asbestos/lead paint, most recent use—range support, off-site use only

Bldg. T-6461

Property Number: 21199910157

Fort Sill

Lawton Co: Comanche OK 73503-5100

Status: Unutilized

Comments: 200 sq. ft., possible asbestos/lead paint, most recent use—range support, off-site use only

Bldg. T-6462

Property Number: 21199910158

Fort Sill

Lawton Co: Comanche OK 73503-5100

Status: Unutilized

Comments: 64 sq. ft., possible asbestos/lead paint, most recent use—control tower, off-site use only

Bldg. P-7230

Property Number: 21199910159

Fort Sill

Lawton Co: Comanche OK 73503-5100

Status: Unutilized

Comments: 160 sq. ft., possible asbestos/lead paint, most recent use—transmitter bldg., off-site use Only

Bldg. S-4023

Property Number: 21200010128

Fort Sill

Lawton Co: Comanche OK 73503-5100

Status: Unutilized

Comments: 1200 sq. ft., possible asbestos/lead paint, most recent use—storage, off-site use only

Bldg. P-747

Property Number: 21200120120

Fort Sill

Lawton Co: Comanche OK 73503-5100

Status: Unutilized

Comments: 9232 sq. ft., possible asbestos/lead paint, most recent use—lab, off-site use only

Bldg. P-842

Property Number: 21200120123

Fort Sill

Lawton Co: Comanche OK 73503-5100

Status: Unutilized

Comments: 192 sq. ft., possible asbestos/lead paint, most recent use—storage, off-site use only

Bldg. T-911

Property Number: 21200120124

Fort Sill

Lawton Co: Comanche OK 73503-5100

Status: Unutilized

Comments: 3080 sq. ft., possible asbestos/lead paint, most recent use—office, off-site use only

Bldg. P-1672

Property Number: 21200120126

Fort Sill

Lawton Co: Comanche OK 73503-5100

Status: Unutilized

Comments: 1056 sq. ft., possible asbestos/lead paint, most recent use—storage, off-site use only

Bldg. S-2362

Property Number: 21200120127

Fort Sill

Lawton Co: Comanche OK 73503-5100

Status: Unutilized

Comments: 64 sq. ft., possible asbestos/lead paint, most recent use—gatehouse, off-site use only

Bldg. P-2589

Property Number: 21200120129

Fort Sill

Lawton Co: Comanche OK 73503-5100

Status: Unutilized

Comments: 3672 sq. ft., possible asbestos/lead paint, most recent use—storage, off-site use only

Bldgs. 00937, 00957

Property Number: 21200710104

Fort Sill

Lawton OK 73501

Status: Unutilized

Comments: 1558 sq. ft., most recent use—storage shed off-site use only

Bldg.01514

Property Number: 21200710105

Fort Sill

Lawton OK 73501

Status: Unutilized

Comments: 1602 sq. ft., most recent use—storage, off-site use only

Bldg. 05685

Property Number: 21200820152

Fort Sill

Lawton OK 73501

Status: Unutilized

Comments: 24,072 sq. ft., concrete block/w brick, off-site use only

Bldg. 07480

Property Number: 21200920002

Fort Sill

Lawton OK 73501

Status: Unutilized

Comments: 1200 sq. ft., most recent use—recreation, off-site use only

Bldgs. 01509, 01510

Property Number: 21200920060

Fort Sill

Lawton OK 73501

Status: Unutilized

Comments: various sq. ft., most recent use—vehicle maint. shop, off-site use only

4 Bldgs.

Property Number: 21200920061

Fort Sill

2591, 2593, 2595, 2604

Lawton OK 73501

Status: Unutilized

Comments: various sq. ft., most recent use—classroom/admin, off-site use only

Bldg. 06456

Property Number: 21200930003

Fort Sill

Lawton OK 73501

Status: Unutilized

Comments: 413 sq. ft. range support facility, off-site use only

Fort Sill (5 Bldgs.)

Property Number: 21201110022

2583-87 Currie Road

Lawton Co: Comanche OK 73501-5100

Location: Bldgs.: 02583, 02584, 02585, 02586, 02587

Status: Unutilized

Comments: Off-site removal only, sq. ft. varies; current use varies

Fort Sill (5 Bldgs.)

Property Number: 21201110023

Currie Road

Lawton Co: Comanche OK 73501-5100

Location: Bldgs. 02588, 02769, 02770, 02771, 02950

Status: Unutilized

Comments: Off-site removal only, sq. ft. varies; current use varied

Bldgs. 02990 & 05020

Property Number: 21201110024

Fort Sill

Lawton Co: Comanche OK 73501-5100

Status: Unutilized

Comments: Off-site removal only, bldg. 02990—3,715 sq. ft. and bldg. 05020-6,682 sq. ft.; current use fast food facility and storage.

3 Bldgs.

Property Number: 21201210089

Bateman Rd, Fort Sill

Lawton Co: Comanche OK 73501

Location: 1511, 1518, 1519

Status: Unutilized

Comments: Off site removal only; various uses (dispatch bldgs. and admin/shop control)

6 Bldgs.

Property Number: 21201210090

Currie Rd, Fort Sill

Lawton Co: Comanche OK 73501

Location: 2524, 2590, 2592, 2593, 2595, 2596

Status: Unutilized

Comments: Off site removal only; various uses

4 Bldgs.

Property Number: 21201210091

Ringgold Rd, Fort Sill

Lawton Co: Comanche OK 73501

Location: 2776, 2919, 2920, 2921

Status: Unutilized

Comments: Off site removal only; various uses

OKLAHOMA

BUILDING

9 Bldgs.

Property Number: 21201210092

Fort Sill

Lawton Co: Comanche OK 73501

Location: 02914, 02924, 02927, 02930, 02936, 02952, 03685, 04702, 05485

Status: Unutilized

Comments: Off site removal only; various uses

4 Buildings

Property Number: 21201230052

Ft. Sill

Lawton OK 73501

Location: 2285,3168,2916,2915

Status: Unutilized

Comments: off-site removal only; sf. varies; use: varies; fair conditions; contact Army re: further details

20 Building

Property Number: 21201240021

Ft. Sill

Ft. Sill OK 73503

Location: 456, 3457, 3460, 3462, 3463, 3466, 3467, 3468, 3470, 3472, 3473, 3476, 3477, 3479, 6009, 6010, 6012, 6014, 6015, 6018

Status: Unutilized

Comments: Off-site removal only, sf varies, fair conditions, contact Army for info on specific details on a particular property.

29 Buildings

Property Number: 21201240028

Ft. Sill

Ft. Sill OK 73503

Location: 1,344, 2522, 2525, 2597, 2598, 2599, 2772, 2774, 2775, 2777, 3355, 3357, 3358, 3360, 3361, 3362, 3363, 3364, 3368, 3401, 3402, 3403, 3404, 3405, 3451, 3452, 3453, 3454

Status: Unutilized

Comments: Off-site removal only, sf. varies, fair conditions, contact Army for specific details for a particular property.

Building 3356

Property Number: 21201240050

Burrill Rd.

Ft. Sill OK 73503

Status: Unutilized

Comments: off-site removal only; 10,839 sf.; vech. maint. shop; 6 mons. vacant; moderate conditions

PUERTO RICO

BUILDING

3 Building

Property Number: 21201240041

Ft. Buchanan

Guaynabo PR 00934

Location: 19,234,294

Status: Excess

Comments: Off-site removal only, sf. varies, deteriorated, restricted aria, contact Army for information on accessibility/removal, specific on a particular property.

Building 293

Property Number: 21201240049

Crane Loop

Ft. Buchanan PR 00934

Status: Excess

Comments: off-site removal only; 54 sf.; ready magazine; 24 mons. vacant; restricted area; deteriorated; contact Army for accessibility/removal requirements

SOUTH DAKOTA

BUILDING

Bldg. 03001

Property Number: 21200740187

Jonas H. Lien AFRC

Sioux Falls SD 57104

Status: Unutilized

Comments: 33282 sq. ft., most recent use—training center

Bldg. 03003

Property Number: 21200740188

Jonas H. Lien AFRC

Sioux Falls SD 57104

Status: Unutilized

Comments: 4675 sq. ft., most recent use—vehicle maint. shop

TENNESSEE

BUILDING

Bldg. 530

Property Number: 21201220033

VTS SMYRNA

Smyrna TN 37167

Status: Excess

Comments: off-site removal only; 1,200 sf; storage; need repairs; need prior approval to access property

LAND

Parcel No. 1

Property Number: 21200920003

Fort Campbell

Tract No. 13M-3

Montgomery TN 42223

Status: Excess

Comments: 6.89 acres/thick vegetation

Parcel No. 2

Property Number: 21200920004

Fort Campbell

Tract Nos. 12M-16B & 13M-3

Montgomery TN 42223

Status: Excess

Comments: 3.41 acres/wooded

Parcel No. 3

Property Number: 21200920005

Fort Campbell

Tract No. 12M-4

Montgomery TN 42223

Status: Excess

Comments: 6.56 acre/wooded

Parcel No. 4

Property Number: 21200920006

Fort Campbell

Tract Nos 10M-22 & 10M-23

Montgomery TN 42223

Status: Excess

Comments: 5.73 acres/wooded

Parcel No. 5

Property Number: 21200920007

Fort Campbell

Tract No. 10M-20

Montgomery TN 42223

Status: Excess

Comments: 3.86 acres/wooded

Parcel No. 7

Property Number: 21200920008

Fort Campbell

Tract No. 10M-10

Montgomery TN 42223

Status: Excess

Comments: 9.47 acres/wooded

Parcel No. 8

Property Number: 21200920009

Fort Campbell

Tract No. 8M-7

Montgomery TN 42223

Status: Excess

Comments: 15.13 acres/wooded

Parcel No. 6

Property Number: 21200940013

Fort Campbell

Hwy 79

Montgomery TN 42223

Status: Excess

Comments: 4.55 acres, wooded w/dirt road/fire break

TEXAS

BUILDING

Bldg. 92043

Property Number: 21200020206

Fort Hood

Ft. Hood Co: Bell TX 76544

Status: Unutilized

Comments: 450 sq. ft., most recent use—storage, off-site use only

Bldg. 92044

Property Number: 21200020207

Fort Hood

Ft. Hood Co: Bell TX 76544

Status: Unutilized

Comments: 1920 sq. ft., most recent use—admin., off-site use only

Bldg. 92045

Property Number: 21200020208

Fort Hood

Ft. Hood Co: Bell TX 76544

Status: Unutilized

Comments: 2108 sq. ft., most recent use—maint., off-site use only

Bldgs. P6220, P6222

Property Number: 21200330197

Fort Sam Houston

Camp Bullis

San Antonio Co: Bexar TX

Status: Unutilized

Comments: 384 sq. ft., most recent use—carport/storage, off-site use only

TEXAS

BUILDING

Bldgs. P6224, P6226

Property Number: 21200330198

Fort Sam Houston

Camp Bullis

San Antonio Co: Bexar TX

Status: Unutilized

Comments: 384 sq. ft., most recent use—carport/storage, off-site use only

Bldg. 92039

Property Number: 21200640101

Fort Hood

Ft. Hood Co: Bell TX 76544

Status: Excess

Comments: 80 sq. ft., most recent use—storage, off-site use only

Bldgs. 04281, 04283

Property Number: 21200720085

Fort Hood

Bell TX 76544

Status: Excess

Comments: 4000/8020 sq. ft., most recent use—storage shed off-site use only

Bldg. 04285

Property Number: 21200720087

Fort Hood

Bell TX 76544

Status: Excess

Comments: 8000 sq. ft., most recent use—storage shed, off-site use only

Bldg. 04286

Property Number: 21200720088

Fort Hood

Bell TX 76544

Status: Excess

Comments: 36,000 sq. ft., presence of asbestos, most recent use—storage shed, off-site use only

Bldg. 04291

Property Number: 21200720089

Fort Hood

Bell TX 76544

Status: Excess

Comments: 6400 sq. ft., presence of asbestos, most recent use—storage shed, off-site use only

Bldg. 4410

Property Number: 21200720090

Fort Hood

Bell TX 76544

Status: Excess

Comments: 12,956 sq. ft., presence of asbestos, most recent use—simulation center, off-site use only

Bldgs. 10031, 10032, 10033

Property Number: 21200720091

Fort Hood

Bell TX 76544

Status: Excess

Comments: 2578/3383 sq. ft., presence of asbestos, most recent use—admin., off-site use only

Bldg. 56435

Property Number: 21200720093

Fort Hood

Bell TX 76544

Status: Excess

Comments: 3441 sq. ft., presence of asbestos, most recent use—barracks, off-site use only

Bldg. 05708

Property Number: 21200720094

Fort Hood

Bell TX 76544

Status: Excess

Comments: 1344 sq. ft., most recent use—community center, off-site use only

Bldg. 93013 Property Number: 21200720099

Fort Hood

Bell TX 76544

Status: Excess

Comments: 800 sq. ft., most recent use—club, off-site use only

4 Bldgs.

Property Number: 21200810048

Fort Hood

Bell TX 76544

Location: 00229, 00230, 00231, 00232

Status: Unutilized

Comments: various sq. ft., presence of asbestos, most recent use—training aids center, off-site use only

Bldg. 00324

Property Number: 21200810049

Fort Hood

Bell TX 76544

Status: Unutilized

Comments: 13,319 sq. ft., most recent use—roller skating rink, off-site use only

Bldgs. 00710, 00739, 00741

Property Number: 21200810050

Fort Hood

Bell TX 76544

Status: Unutilized

Comments: various sq. ft., presence of asbestos, most recent use—repair shop, off-site use only

Bldg. 00713

Property Number: 21200810052

Fort Hood

Bell TX 76544

Status: Unutilized

Comments: 3200 sq. ft., presence of asbestos, most recent use—hdqts. bldg., off-site use only

Bldgs. 1938, 04229

Property Number: 21200810053

Fort Hood

Bell TX 76544

Status: Unutilized

Comments: 2736/9000 sq. ft., presence of asbestos, most recent use—admin., off-site use only

Bldgs. 02218, 02220

Property Number: 21200810054

Fort Hood

Bell TX 76544

Status: Unutilized

Comments: 7289/1456 sq. ft., presence of asbestos, most recent use—museum, off-site use only

Bldg. 0350

Property Number: 21200810055

Fort Hood

Bell TX 76544

Status: Unutilized

Comments: 28,290 sq. ft., presence of asbestos, most recent use—vehicle. maint. shop, off-site use only

Bldg. 04449

Property Number: 21200810056

Fort Hood

Bell TX 76544

Status: Unutilized

Comments: 3822 sq. ft., most recent use—police station, off-site use only

Bldg. 91077

Property Number: 21200810057

Fort Hood

Bell TX 76544

Status: Unutilized

Comments: 3200 sq. ft., presence of asbestos, most recent use—educational facility, off-site use only

Bldg. 57005

Property Number: 21200840073

Fort Hood

Bell TX 76544

Status: Excess

Comments: 500 sq. ft., presence of asbestos, most recent use—water supply/treatment, off-site use only

B-42

Property Number: 21201210007

Fort Hood

Ft. Hood TX 76544

Status: Excess

Comments: off-site removal only; 893 sq. ft.; current use: storage; asbestos identified

B-2319

Property Number: 21201210010

Fort Hood

Ft. Hood TX 76544

Status: Unutilized

Comments: off-site removal only; 1,339 sq. ft.; current use: exchange cafe; asbestos identified

B-4237

Property Number: 21201210011

Fort Hood

Ft. Hood TX 76544

Status: Unutilized

Comments: off-site removal only; 7,840 sq. ft.; current use: storage; asbestos identified

2 Bldgs.

Property Number: 21201210012

Fort Hood

Ft. Hood TX 76544

Location:

4238, 4239

Status: Unutilized

Comments: off-site removal only; sq. ft. varies; current use: varies; asbestos identified

6 Bldgs.

Property Number: 21201210013

Fort Hood

Ft. Hood TX 76544

Location:

4240, 4241, 4253, 4254, 4271, 4444

Status: Unutilized

Comments: off-site removal only; sq. ft. varies; current use: varies; asbestos identified

2 Bldgs.

Property Number: 21201210014

Fort Hood

Ft. Hood TX 76544

Location:

5652, 56272

Status: Unutilized

Comments: off-site removal only; sq. ft. varies; current use: varies

4 Bldgs.

Property Number: 21201210015

Fort Hood

Ft. Hood TX 76544

Location:

4428, 4437, 4452, 56423

Status: Unutilized

Comments: off-site removal; sq. ft. varies; current use: varies; asbestos identified

B-1301

Property Number: 21201220001

Ft. Bliss

Ft. Bliss TX 79916

Status: Underutilized

Comments: off-site removal only; 18,739 sf.; current use: thrift shop; poor conditions; need repairs

Bldg. 7194

Property Number: 21201220002

Ft. Bliss

Ft. Bliss TX 79916

Status: Unutilized

Comments: off-site removal only; 2,125 sf.; current use: housing; poor conditions—need repairs; asbestos & lead identified; need remediation

2 Buildings

Property Number: 21201230012

West Ft. Hood

Ft. Hood TX 76544

Location:

90047 & 92080

Status: Excess

Comments: off-site removal only; 1,680 sf. (90047); 1,059 sf. (92080); restricted military installation; contact Army re: accessibility

6 Buildings

Property Number: 21201230057

Ft. Hood

Ft. Hood TX 76544

Location:

9541, 4478, 9511, 41003, 41002, 70005

Status: Excess

Comments: off-site removal only; need repairs; asbestos identified in some bldgs.; restricted area; prior permission to access & relocate; contact Army for details on specific bldgs.

Building 11142

Property Number: 21201240009

SSG Sims Rd.

Ft. Bliss TX 79916

Status: Excess

Comments: off-site removal only; 12,644 sf.; mess hall; poor conditions; limited public access; contact Army for info. on accessibility/removal

Building 6951

Property Number: 21201240010

11331 Montana Ave.

Ft. Bliss TX 79916

Status: Excess

Comments: off-site removal only; 288 sf.; utility bldg.; poor conditions; limited public access; contact Army for info. on accessibility/removal

Building 6942

Property Number: 21201240011

11331 Montana Ave.

Ft. Bliss TX 79916

Status: Excess

Comments: off-site removal only; 1,059 sf.; storage; poor conditions; limited public access; contact Army for info. on accessibility/removal

Bldg. 2432

Property Number: 21201240013

Carrington Rd.

Ft. Bliss TX 79916

Status: Excess

Comments: off-site removal only; 180 sf.; dispatch bldg.; poor conditions; limited public access; asbestos/lead identified; contact Army for info. on accessibility/removal

Building 50

Property Number: 21201240014

50 Slater Rd.

Ft. Bliss TX 79916

Status: Excess

Comments: off-site removal only; 9,900 sf.; office; poor conditions; limited public access; asbestos/lead identified; contact Army for info. on accessibility/removal

2 Building

Property Number: 21201240044

Ft. Hood

Ft. Hood TX 76544

Location:

706, 4286

Status: Excess

Comments: Off-site removal only, sf. varies, fair conditions, asbestos, restricted area, contact Army for accessibility/removal & specific details on a property.

LAND

1 acre

Property Number: 21200440075

Fort Sam Houston

San Antonio Co: Bexar TX 78234

Status: Excess

Comments: 1 acre, grassy area

UTAH

BUILDING

Bldg. 00001 Property Number: 21200740196

Borgstrom Hall USARC

Ogden UT 84401

Status: Excess

Comments: 16543 sq. ft., most recent use—training center, off-site use only

Bldg. 00002

Property Number: 21200740197

Borgstrom Hall USARC

Ogden UT 84401

Status: Excess

Comments: 3842 sq. ft., most recent use—vehicle maint. shop, off-site use only

Bldg. 00005

Property Number: 21200740198

Borgstrom Hall USARC

Ogden UT 84401

Status: Excess

Comments: 96 sq. ft., most recent use—storage, off-site use only

VERMONT

BUILDING

Bldg. 126

Property Number: 21201220035

Ethan Allen Firing Range

Jericho VT 05465

Status: Unutilized

Comments: off-site removal only; 1,680 sf.; Admin.; extremely poor conditions; need repairs

VIRGINIA

BUILDING

Fort Story

Property Number: 21200720065

Ft. Story VA 23459

Status: Unutilized

Comments: 525 sq. ft., most recent use—power plant, off-site use only

Bldg. 01633

Property Number: 21200720076

Fort Eustis

Ft. Eustis VA 23604

Status: Unutilized

Comments: 240 sq. ft., most recent use—storage, off-site use only

Bldg. 02786

Property Number: 21200720084

Fort Eustis

Ft. Eustis VA 23604

Status: Unutilized

Comments: 1596 sq. ft., most recent use—admin., off-site use only

Bldg. P0838

Property Number: 21200830005

Fort Eustis

Ft. Eustis VA 23604

Status: Unutilized

Comments: 576 sq. ft., most recent use—rec shelter, off-site use only

8 Bldgs.

Property Number: 21201220004

Ft. Belvoir

Ft. Belvoir VA 22060

Location:

808, 1150, 1197, 2303, 2903, 2905, 2907, 3137

Status: Excess

Comments: off-site removal only; sf. varies; usage varies; good to poor conditions; may require repairs; contact Army for more details on specific properties

9 Buildings

Property Number: 21201240003

Ft. Belvoir

Ft. Belvoir VA 22060

Location:

358, 361, 1140, 1141, 1142, 1143, 1498, 1499, 2302

Status: Unutilized

Comments: off-site removal only; sf. varies; Admin.; fair conditions; located in restricted area; contact Army for info. on accessibility/removal & specific info. on a property

WASHINGTON

BUILDING

Bldg. U001C

Property Number: 21199920238

Fort Lewis

Ft. Lewis Co: Pierce WA 98433

Status: Unutilized

Comments: 960 sq. ft., needs repair, presence of asbestos/lead paint, most recent use—supply, off-site use only

2 Bldgs.

Property Number: 21199920239

Fort Lewis

Ft. Lewis Co: Pierce WA 98433

Location:

U002C, U005C

Status: Excess

Comments: 600 sq. ft., needs repair, presence of asbestos/lead paint, most recent use—range house, off-site use only

Bldg. U018C

Property Number: 21199920248

Fort Lewis

Ft. Lewis Co: Pierce WA 98433

Status: Unutilized

Comments: 48 sq. ft., needs repair, presence of asbestos/lead paint, off-site use only

Bldg. U039B

Property Number: 21199920260

Fort Lewis

Ft. Lewis Co: Pierce WA 98433

Status: Excess

Comments: 1600 sq. ft., needs repair, presence of asbestos/lead paint, most recent use—grandstand/bleachers, off-site use only

Bldg. U039C

Property Number: 21199920261

Fort Lewis

Ft. Lewis Co: Pierce WA 98433

Status: Excess

Comments: 600 sq. ft., needs repair, presence of asbestos/lead paint, most recent use—support, off-site use only

Bldg. U115A

Property Number: 21199920275

Fort Lewis

Ft. Lewis Co: Pierce WA 98433

Status: Excess

Comments: 36 sq. ft., needs repair, presence of asbestos/lead paint, most recent use—tower, off-site use only

Bldg. U507A

Property Number: 21199920276

Fort Lewis

Ft. Lewis Co: Pierce WA 98433

Status: Excess

Comments: 400 sq. ft., needs repair, presence of asbestos/lead paint, most recent use—support, off-site use only

Bldg. C0120

Property Number: 21199920281

Fort Lewis

Ft. Lewis Co: Pierce WA 98433

Status: Excess

Comments: 384 sq. ft., needs repair, presence of asbestos/lead paint, most recent use—scale house, off-site use only

Bldg. 1445

Property Number: 21199920294

Fort Lewis

Ft. Lewis Co: Pierce WA 98433

Status: Excess

Comments: 144 sq. ft., needs repair, presence of asbestos/lead paint, most recent use—generator bldg., off-site use only

Bldgs. 03099

Property Number: 21199920296

Fort Lewis

Ft. Lewis Co: Pierce WA 98433

Status: Excess

Comments: various sq. ft., needs repair, presence of asbestos/lead paint, most recent use—sentry station, off-site use only

Bldg. 4040

Property Number: 21199920298

Fort Lewis

Ft. Lewis Co: Pierce WA 98433

Status: Excess

Comments: 8326 sq. ft., needs repair, presence of asbestos/lead paint, most recent use—shed, off-site use only

Bldg. 6191

Property Number: 21199920303

Fort Lewis

Ft. Lewis Co: Pierce WA 98433

Status: Excess

Comments: 3663 sq. ft., needs repair, presence of asbestos/lead paint, most recent use—exchange branch, off-site use only

Bldgs. 08076

Property Number: 21199920304

Fort Lewis

Ft. Lewis Co: Pierce WA 98433

Status: Excess

Comments: 3660/412 sq. ft., needs repair, presence of asbestos/lead paint, off-site use only

Bldg. 8956

Property Number: 21199920308

Fort Lewis

Ft. Lewis Co: Pierce WA 98433

Status: Excess

Comments: 100 sq. ft., needs repair, presence of asbestos/lead paint, most recent use—storage, off-site use only

4 Bldgs.

Property Number: 21201210087

Joint Base Louis McChord

Lewis-McChord Co: Pierce WA 98433

Location:

J0053, 00794, 09791, 09989

Status: Unutilized

Comments: off-site removal only; sf varies; current use: varies; need repairs

7903

Property Number: 21201230023

Plant Rd.

JBLM WA 98433

Status: Unutilized

Comments: 169 sf.; use: access control facility; extensive repairs needed; secured area; contact Army re: accessibility requirements.

E1302 & R7610

Property Number: 21201230028

JBLM

JBLM WA 98433

Status: Unutilized

Comments: 80 sf. (E1302); 503 sf. (R7610); use: varies; major repairs needed; secured area; contact Army re: accessibility requirements

4 Buildings

Property Number: 21201230042

Main Post

WISCONSIN

BUILDING

11 Buildings

Property Number: 21201240019

Ft. McCoy

Ft. McCoy WI 54656

Location:

2120, 2122, 2124, 2140, 2142, 2144, 2146, 2148, 2197, 2677, 9056

Status: Excess

Comments: Off-site removal only, sf varies, fair conditions, lead-based paint, restricted area, contact Army for accessibility/removal & specific details on a property.

13 Building

Property Number: 21201240020

Ft. McCoy

Ft. McCoy WI 54656

Location:

716, 717, 738, 753, 754, 1248, 1249.1250, 1251, 1616, 1617, 1738, 1739

Status: Unutilized

Comments: off-site removal only, sf. varies, fair conditions, asbestos, restricted area, contact Army for information on accessibility removal and details on a particular property.

Buildings 237 and 2118

Property Number: 21201240023

Ft, McCoy

Ft. McCoy WI 54656

Location:

237, 2118

Status: Excess

Comments: Off-site removal only 6,138 sf., vehicle maintained bldg., fair conditions; lead-base paint, restricted area, contacts Army for information on removal requirements.

COE

CONNECTICUT

BUILDING

Garage

Property Number: 31201240005

Colebrook River Lake

Riverton CT 06065

Status: Underutilized

Comments: off-site removal only; 635 sf.; storage; major renovations needed

IOWA

BUILDING

Fee Booth

Property Number: 31201210001

Bridge View Park

Melrose IA 52569

Status: Unutilized

Comments: off-site removal only; 180 sq. ft.; current use: fee booth; need repairs—walls deteriorating due to moisture

Fee Booth

Property Number: 31201210002

Buck Creek Park

Moravia IA 52571

Status: Unutilized

Comments: off-site removal only; 180 sq. ft.; current use: fee booth; need repairs—walls deteriorating due to moisture

Fee Booth

Property Number: 31201210003

Prairie Ridge Park

Moravia IA 52571

Status: Underutilized

Comments: off-site removal only; 180 sq. ft.; current use: fee booth; need repairs— walls contaminated with mold

KANSAS

BUILDING

Shower/Latrine

Property Number: 31201210004

Stockdale Park

Manhattan KS 66502

Status: Underutilized

Comments: off-site removal only; 576 sq. ft.; current use: shower/toilet; need repairs— bldg. deteriorating

2 Single Privies

Property Number: 31201210005

Spillway State Park

Manhattan KS 66502

Status: Underutilized

Comments: off-site removal only; 72 sq. ft.; current use: toilet; need major repairs— bldgs. are deteriorating

Comfort Station

Property Number: 31201210006

Tuttle Creek Cove

Manhattan KS 66502

Status: Underutilized

Comments: off-site removal only; 312 sq. ft.; current use: toilet; need major repairs— bldg. is deteriorating

2 Vault

Toilets Property Number: 31201210007

Stockdale Park

Manhattan KS

Status: Underutilized

Comments: off-site removal only; 80 sq. ft.; current use: toilet; bldgs. are deteriorating— need major repairs

Sun Dance Park

Property Number: 31201220011

31051 Melvern Lake Pkwy

Melvern KS 66510

Status: Underutilized

Comments: 133 sf.; bathroom; poor to fair conditions; fairly significant deterioration on interior wood frame in several places

MISSOURI

BUILDING

W. Hwy Vault Toilet

Property Number: 31201220004

US Army COE

Smithville MO 64089

Status: Underutilized

Comments: Available for off-site removal; 100 sf.; current use: toilet; need extensive repairs

St. Louis District

Property Number: 31201220014

Wappapello Lake Project Office

Wappapello MO 63966

Status: Unutilized

Comments: 376.69 sf.; comfort station; significant structural issues; need repairs

NEW MEXICO

BUILDING

Abiquiu Lake Project Office

Property Number: 31201240004

USACE

Abiquiu NM

Status: Unutilized

Comments: off-site removal only; 165 sf.; vault-type comfort station; repairs needed

NORTH CAROLINA

BUILDING

Well House

Property Number: 31201240002

Property ID # BEJ-17942

B.E. Jordon Dam& Lake NC

Status: Unutilized

Comments: vacant; poor conditions; need repairs

OKLAHOMA

BUILDING

Robert S. Kerr Lake

Property Number: 31201220005

HC 61 Box 238

Sallisaw OK 74955

Status: Unutilized

Comments: off-site removal only; 704 sf.; current use: bathroom; needs repairs

OKLAHOMA

BUILDING

5 Buildings

Property Number: 31201230002

RS Kerr Lake

Sallisaw OK 74955

Location:

42863, 42857,42858,42859,42860

Status: Underutilized

Comments: off-site removal only; 264 sf.; use: vault toilet; excessive vegetation; severe damage from vandals

Oologah Lake

Property Number: 31201240003

Spencer Creek

Oologah OK 74053

Status: Underutilized

Comments: off-site removal only; 576 sf.; picnic shelter; repairs needed

LAND

Keystone Lake

Property Number: 31201220007

USACE Tract No. 2424

Keystone OK

Status: Excess

Comments: .013 acres; current use: civil works land; contact COE for further conditions

SOUTH DAKOTA

BUILDING

Big Bend Project

Property Number: 31201240001

33573 N. Shore Rd.

Chamberlin SD 57325

Status: Unutilized

Comments: off-site removal only; 221 sf. (w/porch), office; poor conditions; severe mold

TEXAS

BUILDING

Restroom

Property Number: 31201240006

2000 FM 2271

Belton TX 76513

Status: Unutilized

Comments: off-site removal only; 850 sf.; 12 mons. vacant; poor conditions

WASHINGTON

BUILDING

Residence, Central Ferry Park

Property Number: 31201220008

1001 Little Goose Dam Rd.

Dayton WA 99328

Status: Unutilized

Comments: off-site removal only; 1,500 sf.; residence; good conditions; an access easement is required through a real estate instrument

Restroom, Central Ferry Park

Property Number: 31201220009

1001 Little Goose Dam Rd.

Dayton WA 99328

Status: Unutilized

Comments: off-site removal only; 2,457 sf.; restroom; good conditions; an access easement is required through a real estate instrument

Restroom, Central Ferry Park

Property Number: 31201220010

1001 Little Goose Dam Rd.

Dayton WA 99328

Location: Boat Ramp Area

Status: Unutilized

Comments: off-site removal only; 420 sf.; restroom; good conditions; an access easement is required through a real estate instrument

Restroom, Central Ferry Park

Property Number: 31201220012

1001 Little Goose Dam Rd.

Dayton WA 99328

Status: Unutilized

Comments: off-site removal only; 660 sf.; restroom; an access easement is required through a real estate instrument

Restroom, Illia Dunes

Property Number: 31201220013

1001 Little Goose Dam Rd.

Dayton WA 99328

Status: Unutilized

Comments: off-site removal only; 220 sf.; restroom

INTERIOR

MARYLAND

3 Bldgs.

Residential Dwellings

Cheverly MD

Property Number: 61201210020

Status: Unutilized

Directions: 3601, 3603, 3605

Comments: off-site removal only; sq. ft. varies; current use: residential; poor conditions—need extensive repairs

COAST GUARD

ALASKA

BUILDING

Mustang Moorings Bldg. 17003

Property Number: 88201220003

1320 Fourth Ave.

Seward AK 99664

Status: Unutilized

Comments: off-site removal only; 2,205 sf.; storage/office/workshop; fair conditions; need repairs

NEW JERSEY

BUILDING

Two Housing Units

Property Number: 88201210002

USCG Detachment Sandy Hook

Highlands NJ 07732

Location: 141 and 142

Status: Underutilized

Comments: off-site removal only; 5,262 sq. ft. each; current use: housing

Housing Unit

Property Number: 88201210003

USCG Detachment Sandy Hook

Highlands NJ 07732

Status: Underutilized

Comments: off-site removal only; 12,924 sq. ft.; current use: storage

NEW YORK

BUILDING

Four Multi- Unit Apts.

Property Number: 88201210001

Fort Wadsworth

Staten Island NY 10305

Status: Underutilized

Comments: off-site removal only; sq. ft. varies; current use: residential; bldgs. are not energy sufficient

Housing Unit

Property Number: 88201220002

154 Lighthouse Dr.

Saugerties NY 23477

Status: Unutilized

Comments: off-site removal only; 1,610 sf.; housing; exposed to extensive flooding; severe mold issues; extensive repairs needed; secured area; prior approval needed to access property

OREGON

BUILDING

2 Bldgs.

Property Number: 88201210005

Group North Bend

N. Bend OR 97459

Location: Bldg. and Rec. Deck

Status: Excess

Comments: off-site removal only; 3,842 sf. for bldg.; 1,650 sf. for rec deck; current use; office and training room; poor conditions-need repairs

ENERGY

NEW YORK

BUILDING

Bldg. 0589

Property Number: 41201210002

Brookhaven Nat'l Lab

Upton NY 11973

Status: Unutilized

Comments: off-site removal only; 60 sq. ft.; current use: storage; poor conditions— signs of decay; need repairs

GSA

BUILDING

ALASKA

3 Buildings

Barrow Magnetic Observatory

Barrow AK 99723

Property Number: 54201240011

Status: Excess

GSA Number: 9AK-I-0842

Directions:

STORAGE: 309 sf.; SENSOR BLDG.: 225 sf.; ABSOLUTE BLDG.:166 sf

Comments: off-site removal only; total sf. 700; good to poor conditions; major renovations needed to make bldgs. ideal to occupy; lead/asbestos; contact GSA for more info. on accessibility/removal

NEBRASKA

BUILDING

Hummel Park Radio Station

11808 John Pershing Dr.

Omaha NE 68112

Property Number: 54201240005

Status: Surplus

GSA Number: 7-D-NE-0536

Comments: Period of availability extended to ensure outreach/notification from GSA; bldg. 1,040 sf.; sits on 4.87 acres +\-; support for antenna operations; good conditions

New York

Bldg. 0589

Brookhaven Nat'l Lab

Upton NY 11973

Landholding Agency: Energy

Property Number: 41201210002

Status: Unutilized

Comments: off-site removal only; 60 sq. ft.; current use: storage; poor conditions— signs of decay; need repairs

LAND

CALIFORNIA

Hydro Electric Power Plant

1402 San Rogue Rd.

Santa Barbara CA 93105

Property Number: 54201240009

Status: Excess

GSA Number: 9-I-CA-1693

Reason: Advertised for sale

Comments: .0997 acres; behind secured gate for Lauro Dame & Reservoir; will impact conveyance; contact GSA for more details

MICHIGAN

FAA Outer Marker

Ash Rd. East of Clark Rd.

New Boston MI 48164

Property Number: 54201230009

Status: Excess

GSA Number: 1-U-MI-0840

Comments: .24 acres; located in a rural area; neighboring farm fields

LAND

MICHIGAN

FAA Outer Marker

N. Side of Avondale St., W. of Tobin Dr.

Inkster MI 48141

Property Number: 54201230010

Status: Excess

GSA Number: 1-U-MI-0841

Comments: .55 acres; located in a residential area; flat & glassy; public park located north of property

TENNESSEE

Fort Campbell Army Garrison

U.S. Hwy 79

Woodlawn TN 37191

Property Number: 54201240010

Status: Excess

GSA Number: 4-D-TN-586-2

Comments: 8 parcels; 3.41 to 13.90 acres; agricultural; adjacent to Ft. Campbell-U.S. Army Garrison; parcel 7 identified as wetlands; contact GSA for more details on specific property

LAND

UTAH

BLM Kanab Field Office

318 N. 100 East

Kanab UT 84741

Property Number: 54201230012

Status: Surplus

GSA Number: 7-I-UT-0528

Directions: includes 6,192 sf. office bldg.; 4,800 sf. warehouse; 1,120 sf. storage/shed on property

Comments: 2.8 acre w/three bldgs.; access to property by appt. only; friable asbestos; remediation needed

NAVY

CALIFORNIA

BUILDING

Bldg. R5

Property Number: 77201220004

Naval Air Station, North Island

San Diego CA 92135

Status: Excess

Comments: off-site removal only; 720 sf.; current use: training classroom/admin. office; very poor conditions; needs extensive repairs; secured area; transferee will need prior approval to access property

R4

Property Number: 77201220009

Naval Air Station

San Diego CA 92135

Status: Excess

Comments: off-site removal; 720 sf.; current use: training rm.; poor conditions; need extensive repairs; secured area; transferee will need prior approval to access property

GUAM

BUILDING

Bldg. 6121

Property Number: 77201230010

U.S. Naval Base

PITI GU 96540

Status: Unutilized

Comments: off-site removal only; 234 sf.; bathroom; deteriorating conditions; major renovations needed; restricted area; visitor's pass required & issued by Security Dept.

Bldg. 6120

Property Number: 77201230011

Recreation Pavilion

PITI GU 96540

Status: Excess

Comments: off-site removal only; 286 sf.; deteriorating conditions; major renovations needed; restricted area; visitor's pass required & issued by Security Dept.

Bldg. 793

Property Number: 77201230012

Fern St.

Santa Rita GU 96540

Status: Excess

Comments: off-site removal only; 2,411 sf.; bachelor enlisted quarters; deteriorating conditions; major renovations needed; restricted area; vistior's pass required & issued by Sec. Dept.

16 Buildings

Property Number: 77201230013

S. Columbus Ave./Lotus Cir/Fern St.

Santa Rita GU 96540

Location: 766 thru 768, 770 thru 773, 775 thru 777, 794, 795, 797 thru 800

Status: Excess

Comments: off-site removal only; 2,562 sf. per bldg. Deteriorating conditions; renovations needed; bachelor enlisted quarters; restricted area; visitor's pass required & issued by Security Dept.

13 Buildings

Property Number: 77201230014

Jasmin/South Columbus/Lotus Circle St.

Santa Rita GU 96540

Location: 754 thru 761,781,782,784 thru 786

Status: Excess

Comments: off-site removal only 2,038 sf. per bldg.; bachelor enlisted quarters; deteriorating conditions; major renovations needed; restricted area; visitor's pass required & issued by Security Dept.

17 Buildings

Property Number: 77201230015

South Tipalao

Santa Rita GU 96540

Location: 733, 735, 736, 737, 738, 739, 740, 741, 742, 744, 746, 747, 748, 749, 750, 751, 752

Status: Excess

Comments: off-site removal only; 2,038 sf. per bldg.; bachelor enlisted quarters; deteriorating conditions; major renovations needed; restricted area; visitor's pass required issued by Security Dept.

8 Buildings

Property Number: 77201230016

Begonia St.

Santa Rita GU 96540

Location: 717,718,719,720,721,725,726,727

Status: Excess

Comments: off-site removal only; 2,038 sf. per bldg.; bachelor enlisted quarters; major renovations needed; restricted area; visitor's pass required & issued by Security Dept.

3 Buildings

Property Number: 77201230018

Anthurium St.

Santa Rita GU 96540

Location: 703,704,705

Status: Excess

Comments: off-site removal only; 2,562 sf. per bldg.; bachelor enlisted quarters; deteriorating conditions; major renovations needed; restricted area; vistior's pass required & issued by Security Dept.

9 Buildings

Property Number: 77201230019

Anthurium St.

Santa Rita GU 96540

Location: 701,706,707,708,709,710,711,712,713

Status: Excess

Comments: off-site removal only; 2,038 sf. per bldg.; bachelor enlisted quarters; deteriorating conditions; major renovations needed; restricted pass required & issued by Security Dept.

Bldg. 612

Property Number: 77201230020

Leary St., South Tipalao

Santa Rita GU 96540

Status: Excess

Comments: off-site removal only; 6,280 sf.; bachelor enlisted quarters; deteriorating conditions; major renovations needed; restricted pass required & issued by Security Dept.

Bldg. 605

Property Number: 77201230021

U.S. Naval Base

Santa Rita GU 96540

Location: Leary Street, South Tipalao

Status: Excess

Comments: off-site removal only; 4,776 sf.; bachelor enlisted quarters; deteriorating conditions; major renovations needed; restricted pass required & issued by Security Dept.

Bldg. 603

Property Number: 77201230022

U.S. Naval Base

Santa Rita GU 96540

Location: Leary Street, South Tipalao

Status: Excess

Comments: off-site removal only; 3,672 sf.; bachelor enlisted quarters; deteriorating conditions; major renovations needed; restricted pass required & issued by Security Dept.

7 Buildings

Property Number: 77201230023

Leary Street, South Tipalao

Santa Rita GU 96540

Location: 602,604,606,607,608,609,610

Status: Excess

Comments: off-site removal only; 3,164 sf. per bldg.; bachelor enlisted quarters; deteriorating conditions; major renovations needed; restricted pass required & issued by Security Dept.

Bldg. 601

Property Number: 77201230024

U.S. Naval Base

Santa Rita GU 96540

Location: Leary Street, South Tipalao

Status: Excess

Comments: off-site removal only; 2,906 sf.; bachelor enlisted quarters; deteriorating conditions; major renovations needed; restricted pass required & issued by Security Dept.

Bldg. 27

Property Number: 77201230025

U.S. Naval Base

Santa Rita GU 96540

Status: Unutilized

Comments: off-site removal only; 1,750 sf.; steam plant; deteriorating conditions; major renovations needed; restricted pass required & issued by Security Dept.

ILLINOIS

BUILDING

Building 103

Property Number: 77201240005

2510 Luce Blvd.

Great Lakes IL 60088

Status: Unutilized

Comments: off-site removal only 5,531 sf., public shop, vacant since Jan, 2011, poor condition, lead/asbestos identified, secure area, contact Navy information on accessibility/removal.

NEVADA

BUILDING

Building 60

Property Number: 77201240007

4755 Pasture Rd.

Fallon NV 89496

Status: Unutilized

Comments: off-site removal only; 1,584 sf.; retail store; 1 mon. vacant; repairs required; restricted area; contact Navy for info. re: accessibility/removal reqs.

VIRGINIA

BUILDING

Building 3074

Property Number: 77201240003

Epperson Avenue

Quantico VA 22134

Status: Excess

Comments: off-site removal only 7,705 sf. office, very poor conditions, secured area, contact Navy for information on accessibility/removal.

Building 3074

Property Number: 77201240004

Epperson Avenue

Quantico VA 22134

Status: Excess

Comments: off-site removal only 7,705 sf. office, very poor conditions, secured area, contact Navy or information on accessibility/removal.

TITLE V, PROPERTIES REPORTED IN YEAR 2012 WHICH ARE SUITABLE AND UNAVAILABLE

AIR FORCE

CALIFORNIA

BUILDING

Bldg. 5435

Property Number: 18201140041

Davis Ave.

Barksdale CA 71101

Status: Underutilized

Reason: express of interest

COLORADO

BUILDING

AF Academy

Property Number: 18201140026

8010 Sage Brush Dr.

USAF Academy CO 80840

Status: Unutilized

Reason: disposal in progress

NEW YORK

BUILDING

Bldg. 302

Property Number: 18200340026

Rome Lab

Rome Co: Oneida NY 13441

Status: Unutilized

Reason: occupied

SOUTH DAKOTA

LAND

Tract 133

Property Number: 18200310004

Ellsworth AFB

Box Elder Co: Pennington SD 57706

Status: Unutilized

Reason: Special Legislation

Tract 67

Property Number: 18200310005

Ellsworth AFB

Box Elder Co: Pennington SD 57706

Status: Unutilized

Reason: mission purpose

WASHINGTON

BUILDING

Bldg. 404/Geiger Heights

Property Number: 18200420002

Fairchild AFB

Spokane WA 99224

Status: Unutilized

Reason: mission effort

11 Bldgs./Geiger Heights

Property Number: 18200420003

Fairchild AFB

Spokane WA 99224

Status: Unutilized

Reason: mission effort

Bldg. 297/Geiger Heights

Property Number: 18200420004

Fairchild AFB

Spokane WA 99224

Status: Unutilized

Reason: mission effort

9 Bldgs./Geiger Heights

Property Number: 18200420005

Fairchild AFB

Spokane WA 99224

Status: Unutilized

Reason: mission effort

22 Bldgs./Geiger Heights

Property Number: 18200420006

Fairchild AFB

Spokane WA 99224

Status: Unutilized

Reason: mission effort

51 Bldgs./Geiger Heights

Property Number: 18200420007

Fairchild AFB

Spokane WA 99224

Status: Unutilized

Reason: mission effort

Bldg. 402/Geiger Heights

Property Number: 18200420008

Fairchild AFB

Spokane WA 99224

Status: Unutilized

Reason: mission effort

5 Bldgs./Geiger Heights

Property Number: 18200420009

Fairchild AFB

222, 224, 271, 295, 260

Spokane WA 99224

Status: Unutilized

Reason: mission effort

5 Bldgs./Geiger Heights

Property Number: 18200420010

Fairchild AFB

102, 183, 118, 136, 113

Spokane WA 99224

Status: Unutilized

Reason: mission effort

Army

ALABAMA

BUILDING

22 Buildings

Redstone Arsenal

Redstone Arsenal AL 35898

Landholding Agency: Army

Property Number: 21201220053

Status: Excess

Directions: 1418, 1417, 1400, 1419, 1420, 1423, 1424, 1426, 1427, 1428, 1429, 1430, 1433, 1434, 1435, 1436, 1437, 3410, 3411, 3412, 3413, 7310

Reason: occupied

ARIZONA

BUILDING

Bldg. 22529

Property Number: 21200520077

Fort Huachuca

Cochise AZ 85613-7010

Status: Excess

Reason: occupied

Bldg. 22541

Property Number: 21200520078

Fort Huachuca

Cochise AZ 85613-7010

Status: Excess

Reason: occupied

Bldg. 30020

Property Number: 21200520079

Fort Huachuca

Cochise AZ 85613-7010

Status: Excess

Reason: occupied

Bldg. 30021

Property Number: 21200520080

Fort Huachuca

Cochise AZ 85613-7010

Status: Excess

Reason: occupied

Bldg. 22040

Property Number: 21200540076

Fort Huachuca

Cochise AZ 85613

Status: Excess

Reason: occupied

Bldg. 22540

Property Number: 21200620067

Fort Huachuca

Cochise AZ 85613-7010

Status: Excess

Reason: occupied

CALIFORNIA

BUILDING

Bldg. 00352

Property Number: 21200240031

Fort Irwin

Ft. Irwin Co: San Bernardino CA 92310

Status: Unutilized

Reason: currently being utilized by the Army

COLORADO

BUILDING

Bldg. S6285

Property Number: 21200420176

Fort Carson

Ft. Carson Co: El Paso CO 80913

Status: Unutilized

Reason: in use

GEORGIA

BUILDING

Bldg. 5993

Property Number: 21200420041

Fort Benning

Ft. Benning Co: Chattahoochee GA 31905

Status: Excess

Reason: in use

Bldg. 5994

Property Number: 21200420042

Fort Benning

Ft. Benning Co: Chattahoochee GA 31905

Status: Excess

Reason: in use

Bldg. 5995

Property Number: 21200420043

Fort Benning

Ft. Benning Co: Chattahoochee GA 31905

Status: Excess

Reason: in use

Bldg. 09402

Property Number: 21200510003

Fort Benning

Ft. Benning Co: Chattahoochee GA 31905

Status: Excess

Reason: currently being utilized by the Army

LOUISIANA

BUILDING

Bldgs. T406, T407, T411

Property Number: 21200540085

Fort Polk

Ft. Polk LA 71459

Status: Unutilized

Reason: occupied

MARYLAND

BUILDING

Bldg. 8608

Property Number: 21200410099

Fort George G. Meade

Ft. Meade MD 20755-5115

Status: Unutilized

Reason: occupied

Bldg. 8612

Property Number: 21200410101

Fort George G. Meade

Ft. Meade MD 20755-5115

Status: Unutilized

Reason: occupied

Bldg. 1007

Property Number: 21200140085

Ft. George G. Meade

Ft. Meade Co: Anne Arundel MD 20755

Status: Unutilized

Reason: occupied

Bldg. 294

Property Number: 21200140081

Ft. George G. Meade

Ft. Meade Co: Anne Arundel MD 20755

Status: Unutilized

Reason: occupied

Bldg. 2214

Property Number: 21200230054

Fort George G. Meade

Fort Meade Co: Anne Arundel MD 20755

Status: Unutilized

Reason: occupied

Bldg. 0001A

Property Number: 21200520114

Federal Support Center

Olney Co: Montgomery MD 20882

Status: Unutilized

Reason: occupied

Bldg. 0001C

Property Number: 21200520115

Federal Support Center

Olney Co: Montgomery MD 20882

Status: Unutilized

Reason: occupied

Bldgs. 00032, 00H14, 00H24

Property Number: 21200520116

Federal Support Center

Olney Co: Montgomery MD 20882

Status: Unutilized

Reason: occupied

Bldgs. 00034, 00H016

Property Number: 21200520117

Federal Support Center

Olney Co: Montgomery MD 20882

Status: Unutilized

Reason: occupied

Bldgs. 00H10, 00H12

Property Number: 21200520118

Federal Support Center

Olney Co: Montgomery MD 20882

Status: Unutilized

Reason: occupied

MICHIGAN

BUILDING

Bldg. 00001

Property Number: 21200510066

Sheridan Hall USARC

501 Euclid Avenue

Helena Co: Lewis MI 59601-2865

Status: Unutilized

Reason: Federal interest

MISSOURI

BUILDING

Bldg. 1230

Property Number: 21200340087

Fort Leonard Wood

Ft. Leonard Wood Co: Pulaski MO 65743-8944

Status: Unutilized

Reason: occupied

Bldg. 1621

Property Number: 21200340088

Fort Leonard Wood

Ft. Leonard Wood Co: Pulaski MO 65743-8944

Status: Unutilized

Reason: occupied

Bldg. 5760

Property Number: 21200410102

Fort Leonard Wood

Ft. Leonard Wood Co: Pulaski MO 65743-8944

Status: Unutilized

Reason: occupied

Bldg. 5762

Property Number: 21200410103

Fort Leonard Wood

Ft. Leonard Wood Co: Pulaski MO 65743-8944

Status: Unutilized

Reason: occupied

Bldg. 5763

Property Number: 21200410104

Fort Leonard Wood

Ft. Leonard Wood Co: Pulaski MO 65743-8944

Status: Unutilized

Reason: occupied

Bldg. 5765

Property Number: 21200410105

Fort Leonard Wood

Ft. Leonard Wood Co: Pulaski MO 65743-8944

Status: Unutilized

Reason: occupied

Bldg. 5760

Property Number: 21200420059

Fort Leonard Wood

Ft. Leonard Wood Co: Pulaski MO 65743-8944

Status: Unutilized

Reason: in use

Bldg. 5762

Property Number: 21200420060

Fort Leonard Wood

Ft. Leonard Wood Co: Pulaski MO 65743-8944

Status: Unutilized

Reason: in use

Bldg. 5763

Property Number: 21200420061

Fort Leonard Wood

Ft. Leonard Wood Co: Pulaski MO 65743-8944

Status: Unutilized

Reason: in use

Bldg. 5765

Property Number: 21200420062

Fort Leonard Wood

Ft. Leonard Wood Co: Pulaski MO 65743-8944

Status: Unutilized

Reason: in use

Bldg. 00467

Property Number: 21200530085

Fort Leonard Wood

Ft. Leonard Wood Co: Pulaski MO 65743

Status: Unutilized

Reason: occupied

NEW YORK

BUILDING

Bldgs. 1511-1518

Property Number: 21200320160

U.S. Military Academy

Training Area

Highlands Co: Orange NY 10996

Status: Unutilized

Reason: occupied

Bldgs. 1523-1526

Property Number: 21200320161

U.S. Military Academy

Training Area

Highlands Co: Orange NY 10996

Status: Unutilized

Reason: occupied

Bldgs. 1704-1705, 1721-1722

Property Number: 21200320162

U.S. Military Academy

Training Area

Highlands Co: Orange NY 10996

Status: Unutilized

Reason: occupied

Bldg. 1723

Property Number: 21200320163

U.S. Military Academy

Training Area

Highlands Co: Orange NY 10996

Status: Unutilized

Reason: occupied

Bldgs. 1706-1709

Property Number: 21200320164

U.S. Military Academy

Training Area

Highlands Co: Orange NY 10996

Status: Unutilized

Reason: occupied

Bldgs. 1731-1735

Property Number: 21200320165

U.S. Military Academy

Training Area

Highlands Co: Orange NY 10996

Status: Unutilized

Reason: occupied

TEXAS

BUILDING

Bldg. 7137, Fort Bliss

Property Number: 21199640564

El Paso Co: El Paso TX 79916

Status: Unutilized

Reason: occupied

Building 6924

Property Number: 21201240012

11331 Montana Ave.

Ft. Bliss TX 79916

Status: Excess

Reason: occupied

Bldgs. 4219, 4227

Property Number: 21200220139

Fort Hood

Ft. Hood Co: Bell TX 76544

Status: Unutilized

Reason: admin use

Bldgs. 4229, 4230, 4231

Property Number: 21200220140

Fort Hood

Ft. Hood Co: Bell TX 76544

Status: Unutilized

Reason: admin use

Bldgs. 4244, 4246

Property Number: 21200220141

Fort Hood

Ft. Hood Co: Bell TX 76544

Status: Unutilized

Reason: admin use

Bldg. 04335

Property Number: 21200440090

Fort Hood

Bell TX 76544

Status: Excess

Reason: occupied

Bldg. 04468

Property Number: 21200440096

Fort Hood

Bell TX 76544

Status: Excess

Reason: occupied

Bldg. 07002

Property Number: 21200440100

Fort Hood

Bell TX 76544

Status: Excess

Reason: occupied

Bldg. 57001

Property Number: 21200440105

Fort Hood

Bell TX 76544

Status: Excess

Reason: occupied

Bldgs. 125, 126

Property Number: 21200620075

Fort Hood

Bell TX 76544

Status: Excess

Reason: occupied

Bldg. 02240

Property Number: 21200620078

Fort Hood

Bell TX 76544

Status: Excess

Reason: occupied

Bldg. 04164

Property Number: 21200620079

Fort Hood

Bell TX 76544

Status: Excess

Reason: occupied

Bldgs. 04218, 04228

Property Number: 21200620080

Fort Hood

Bell TX 76544

Status: Excess

Reason: occupied

Bldg. 04272

Property Number: 21200620081

Fort Hood

Bell TX 76544

Status: Excess

Reason: not occupied

Bldg. 04415

Property Number: 21200620083

Fort Hood

Bell TX 76544

Status: Excess

Reason: occupied

Bldg. 04493

Property Number: 21200620091

Fort Hood

Bell TX 76544

Status: Excess

Reason: occupied

Bldg. 04494

Property Number: 21200620092

Fort Hood

Bell TX 76544

Status: Excess

Reason: occupied

Bldg. 04632

Property Number: 21200620093

Fort Hood

Bell TX 76544

Status: Excess

Reason: occupied

Bldg. 04640

Property Number: 21200620094

Fort Hood

Bell TX 76544

Status: Excess

Reason: occupied

Bldg. 04645

Property Number: 21200620095

Fort Hood

Bell TX 76544

Status: Excess

Reason: occupied

Bldg. 20121

Property Number: 21200620097

Fort Hood

Bell TX 76544

Status: Excess

Reason: occupied

Bldg. 91052

Property Number: 21200620101

Fort Hood

Bell TX 76544

Status: Excess

Reason: occupied

Bldg. 1345

Property Number: 21200740070

Fort Hood

Bell TX 76544

Status: Excess

Reason: utilized

Bldgs. 1348, 1941

Property Number: 21200740071

Fort Hood

Bell TX 76544

Status: Excess

Reason: utilized

Bldg. 1943

Property Number: 21200740073

Fort Hood

Bell TX 76544

Status: Excess

Reason: utilized

Bldg. 1946

Property Number: 21200740074

Fort Hood

Bell TX 76544

Status: Excess

Reason: utilized

Bldg. 4207

Property Number: 21200740076

Fort Hood

Bell TX 76544

Status: Excess

Reason: utilized

Bldg. 4208

Property Number: 21200740077

Fort Hood

Bell TX 76544

Status: Excess

Reason: utilized

Bldgs. 4210, 4211, 4216

Property Number: 21200740078

Fort Hood

Bell TX 76544

Status: Excess

Reason: utilized

Bldg. 4219A

Property Number: 21200740079

Fort Hood

Bell TX 76544

Status: Excess

Reason: utilized

Bldg. 04252

Property Number: 21200740081

Fort Hood

Bell TX 76544

Status: Excess

Reason: utilized

Bldg. 04480

Property Number: 21200740083

Fort Hood

Bell TX 76544

Status: Excess

Reason: utilized

Bldg. 04485

Property Number: 21200740084

Fort Hood

Bell TX 76544

Status: Excess

Reason: utilized

Bldg. 04489

Property Number: 21200740086

Fort Hood

Ft. Hood TX 76544

Status: Excess

Reason: utilized

Bldgs. 4491, 4492

Property Number: 21200740087

Fort Hood

Bell TX 76544

Status: Excess

Reason: utilized

Bldgs. 04914, 04915, 04916

Property Number: 21200740089

Fort Hood

Bell TX 76544

Status: Excess

Reason: utilized

Bldg. 20102

Property Number: 21200740091

Fort Hood

Bell TX 76544

Status: Excess

Reason: utilized

Bldg. 20118

Property Number: 21200740092

Fort Hood

Bell TX 76544

Status: Excess

Reason: utilized

Bldg. 29027

Property Number: 21200740093

Fort Hood

Bell TX 76544

Status: Excess

Reason: utilized

Bldg. 56017

Property Number: 21200740094

Fort Hood

Bell TX 76544

Status: Excess

Reason: utilized

Bldg. 56202

Property Number: 21200740095

Fort Hood

Bell TX 76544

Status: Excess

Reason: utilized

Bldg. 56224

Property Number: 21200740096

Fort Hood

Bell TX 76544

Status: Excess

Reason: utilized

Bldg. 56329

Property Number: 21200740100

Fort Hood

Bell TX 76544

Status: Excess

Reason: utilized

Bldg. 92043

Property Number: 21200740102

Fort Hood

Bell TX 76544

Status: Excess

Reason: utilized

Bldg. 92072

Property Number: 21200740103

Fort Hood

Bell TX 76544

Status: Excess

Reason: utilized

Bldg. 92083

Property Number: 21200740104

Fort Hood

Bell TX 76544

Status: Excess

Reason: utilized

Bldgs. 04213, 04227

Property Number: 21200740189

Fort Hood

Bell TX 76544

Status: Excess

Reason: utilized

Bldg.4404

Property Number: 21200740190

Fort Hood

Bell TX 76544

Status: Excess

Reason: utilized

Bldg. 56607

Property Number: 21200740191

Fort Hood

Bell TX 76544

Status: Excess

Reason: utilized

Bldg. 91041

Property Number: 21200740192

Fort Hood

Bell TX 76544

Status: Excess

Reason: utilized

5 Bldgs.

Property Number: 21200740193

Fort Hood

93010, 93011, 93012, 93014

Bell TX 76544

Status: Excess

Reason: utilized

Bldg. 94031

Property Number: 21200740194

Fort Hood

Bell TX 76544

Status: Excess

Reason: utilized

VIRGINIA

BUILDING

Bldg. T2827

Property Number: 21200320172

Fort Pickett

Blackstone Co: Nottoway VA 23824

Status: Unutilized

Reason: occupied

Bldg. T2841

Property Number: 21200320173

Fort Pickett

Blackstone Co: Nottoway VA 23824

Status: Unutilized

Reason: occupied

Bldg. 01014

Property Number: 21200720067

Fort Story

Ft. Story VA 23459

Status: Unutilized

Reason: occupied

Bldg. 01063

Property Number: 21200720072

Fort Story

Ft. Story VA 23459

Status: Unutilized

Reason: occupied

Bldg. 00215

Property Number: 21200720073

Fort Eustis

Ft. Eustis VA 23604

Status: Unutilized

Reason: occupied

4 Bldgs.

Property Number: 21200720074

Fort Eustis

01514, 01523, 01528, 01529

Ft. Eustis VA 23604

Status: Unutilized

Reason: occupied

4 Bldgs.

Property Number: 21200720075

Fort Eustis

01534, 01542, 01549, 01557

Ft. Eustis VA 23604

Status: Unutilized

Reason: occupied

Bldgs. 01707, 01719

Property Number: 21200720077

Fort Eustis

Ft. Eustis VA 23604

Status: Unutilized

Reason: occupied

Bldg. 01720

Property Number: 21200720078

Fort Eustis

Ft. Eustis VA 23604

Status: Unutilized

Reason: occupied

Bldgs. 01721, 01725

Property Number: 21200720079

Fort Eustis

Ft. Eustis VA 23604

Status: Unutilized

Reason: occupied

Bldgs. 01726, 01735, 01736

Property Number: 21200720080

Fort Eustis

Ft. Eustis VA 23604

Status: Unutilized

Reason: occupied

Bldgs. 01734, 01745, 01747

Property Number: 21200720081

Fort Eustis

Ft. Eustis VA 23604

Status: Unutilized

Reason: occupied

Bldg. 01741

Property Number: 21200720082

Fort Eustis

Ft. Eustis VA 23604

Status: Unutilized

Reason: occupied

Bldg. 02720

Property Number: 21200720083

Fort Eustis

Ft. Eustis VA 23604

Status: Unutilized

Reason: occupied

WASHINGTON

BUILDING

2 Bldgs.

Property Number: 21199920273

Fort Lewis

Ft. Lewis Co: Pierce WA 98433

Location:

U015A, U024E

Status: Excess

Reason: occupied

GSA

ARKANSAS

BUILDING

Sulphur Rock Radio Station

N. Main Street

Sulphur Rock AR 72579

Property Number: 54201220008

Status: Excess

GSA Number: 7-B-AR-576-AA

Reason: Expression of interest

ARKANSAS

BUILDING

Winnesburg Radio Station

SW Side of State Hwy 18 & County Rd.

Cash AR 72421

Property Number: 54201230013

Status: Excess

GSA Number: 7-B-AR-0577

Reason: Advertised for Sale

Comments: 9′8″ × 15′5″; storage/office; fair conditions; need repairs

DISTRICT OF COLUMBIA

BUILDING

West Heating Plant

1051 29th St. NW

Washington DC 20007

Property Number: 54201140006

Status: Surplus

GSA Number: DC-497-1

Reason: Advertised for sale

FLORIDA

BUILDING

4 Structures

142 Keeper's Cottage Way

Cape San Blas FL 32456

Property Number: 54201230008

Status: Surplus

GSA Number: 4-D-FL-1265AA

Directions: Cape San Blas Lighthouse, Keeper's Quarters A, Keeper's Quarter B, & an Oil/Storage Shed

Reason: Conveyance pending

GEORGIA

BUILDING

5 Acres

Former CB7 Radio Communication

Townsend GA 31331

Property Number: 54201210008

Status: Excess

GSA Number: 4-U-GA-885AA

Reason: Advertised for sale

IDAHO

BUILDING

Moscow Federal Bldg.

220 East 5th Street

Moscow ID 83843

Property Number: 54201140003

Status: Surplus

GSA Number: 9-G-ID-573

Reason: Conveyance pending

ILLINOIS

BUILDING

1LT A.J. Ellison

Army Reserve

Wood River IL 62095

Property Number: 54201110012

Status: Excess

GSA Number: 1-D-II-738

Reason: Conveyance pending

IOWA

BUILDING

U.S. Army Reserve

620 West 5th St.

Garner IA 50438

Property Number: 54200920017

Status: Excess

GSA Number: 7-D-IA-0510

Reason: Advertised for sale

NRCS-USDA Unit

1820 E. Euclid Ave.

Des Moines IA 50313

Property Number: 54201240004

Status: Excess

GSA Number: 7-A-IA-0511-AA

Directions: includes 2 Bldgs.; masonry 2,048 sf. +/-, frame 5,513 sf. +/-

Reason: Expression of interest

MAINE

BUILDING

Columbia falls Radar Site

Tibbetstown Road

Columbia Falls ME 04623

Property Number: 54201140001

Status: Excess

GSA Number: 1-D-ME-0687

Directions: Buildings 1, 2, 3, and 4

Reason: Expression of interest

MARYLAND

BUILDING

Appraisers Store

Baltimore MD 21202

Property Number: 54201030016

Status: Excess

GSA Number: 4-G-MD-0623

Reason: Advertised for sale

MICHIGAN

BUILDING

CPT George S. Crabbe USARC

2901 Webber Street

Saginaw MI

Property Number: 54201030018

Status: Excess

GSA Number: 1-D-MI-835

Reason: Conveyance pending

Beaver Island High Level Site

South End Road

Beaver Island MI 49782

Property Number: 54201140002

Status: Excess

GSA Number: 1-X-MI-664B

Reason: Conveyance pending

MINNESOTA

BUILDING

Noyes Land Port of Entry

SW Side of US Rte. 75

Noyes MN 56740

Property Number: 54201230007

Status: Excess

GSA Number: 1-G-MN-0593

Directions: one main bldg.; one storage; approx. 16,000 and 900 sf. respectively

Reason: Expression of interest

MISSOURI

Nat'l Personnel Records Center

111 Winnebago

St. Louis MO 63118

Landholding Agency: GSA

Property Number: 54201220009

Status: Excess

GSA Number: 7-G-MO-0684

Reason: Advertised for sale

Crane Radio Station

Elm Street Rd.

Marionville MO 65633

Landholding Agency: GSA

Property Number: 54201240003

Status: Excess

GSA Number: 7-B-MO-0698

Reason: Advertised for sale

MONTANA

James F. Battin & Courthouse

316 North 26th Street

Billings MT 59101

Landholding Agency: GSA

Property Number: 54201210005

Status: Excess

GSA Number: 7-G-MT-0621-AB

Reason: Advertised for sale

NEVADA

BUILDING

Alan Bible Federal Bldg.

600 S. Las Vegas Blvd.

Las Vegas NV 89101

Property Number: 54201210009

Status: Excess

GSA Number: 9-G-NV-565

Reason: Expression of interest

NEW JERSEY

BUILDING

Camp Petricktown Sup. Facility

US Route 130

Pedricktown NJ 08067

Property Number: 54200740005

Status: Excess

GSA Number: 1-D-NJ-0662

Reason: Expression of interest

New Mexico

Building

USDA/NRCS Grants Field Office

117 N. Silver

Grants NM 87020

Property Number: 54201220011

Status: Surplus

GSA Number: 7-A-NM-0604

Reason: Expression of interest

NORTH CAROLINA

BUILDING

Greenville Site

10000 Cherry Run Rd.

Greenville NC 27834

Property Number: 54201210002

Status: Unutilized

GSA Number: 4-2-NC-0753

Reason: Expression of interest

OHIO

BUILDING

Oxford USAR Facility

6557 Todd Road

Oxford OH 45056

Property Number: 54201010007

Status: Excess

GSA Number: 1-D-OH-833

Reason: Advertised for sale

Army Reserve Center

5301 Hauserman Rd.

Parma OH 44130

Property Number: 54201020009

Status: Excess

GSA Number: I-D-OH-842

Reason: Conveyance pending

LTC Dwite Schaffner

U. S. Army Reserve Center

1011 Gorge Blvd.

Akron OH 44310

Property Number: 54201120006

Status: Excess

GSA Number: 1-D-OH-836

Reason: Expression of interest

OKLAHOMA

BUILDING

Lamar Radio Station

S. of County Rd.

Lamar OK 74850

Property Number: 54201240002

Status: Excess

GSA Number: 7-B-OK-0581

Reason: Advertised for sale

OREGON

BUILDING

3 Bldgs./Land

OTHR-B Radar

City Rd 514

Christmas Valley OR 97641

Property Number: 54200840003

Status: Excess

GSA Number: 9-D-OR-0768

Reason: Conveyance pending

PENNSYLVANIA

BUILDING

Old Marienville Compound

110 South Forest St.

Marienville PA 16239

Property Number: 54201230001

Status: Excess

GSA Number: 4-A-PA-808AD

Directions: 10 bldgs.; wood farm duplex; office/garage; pole bard; shop; (2) wood sheds; block shed; trailer; carport; toilet bldg.

Reason: Expression of interest

TEXAS

BUILDING

Veterans Post Office

1300 Mutamoros St.

Laredo TX 78040

Property Number: 54201240001

Status: Excess

GSA Number: 7-G-TX-1055-AA

Reason: Expression of interest

UTAH

BUILDING

2 Buildings

9160 N. Hwy 83

Corinne UT 84307

Property Number: 54201230003

Status: Excess

GSA Number: 7-Z-UT-0533

Directions: T077 & T078; NASA Shuttle Storage Warehouses

Reason: Advertised for sale

WASHINGTON

BUILDING

Log House

281 Fish Hatchery Rd.

Quilcene WA 98376

Property Number: 54201220006

Status: Excess

GSA Number: 9-I-WA-1260

Reason: Advertise for sale

WISCONSIN

BUILDING

Wausau Army Reserve Ctr.

1300 Sherman St.

Wausau WI 54401

Property Number: 54201210004

Status: Excess

GSA Number: 1-D-WI-610

Reason: Expression of interest

LAND

ARIZONA

LAND

95th Ave/Bethany Home Rd

Glendale AZ 85306

Property Number: 54201010014

Status: Surplus

GSA Number: 9-AZ-852

Reason: Expression of interest

0.30 acre

Bethany Home Road

Glendale AZ 85306

Property Number: 54201030010

Status: Excess

GSA Number: 9-I-AZ-0859

Reason: Expression of interest

CALIFORNIA

Drill Site #3A

Ford City CA 93268

Property Number: 54201040004

Status: Surplus

GSA Number: 9-B-CA-1673-AG

Reason: Advertised for sale

Drill Site #4

Ford City CA 93268

Property Number: 54201040005

Status: Surplus

GSA Number: 9-B-CA-1673-AB

Reason: Advertised for sale

Drill Site #6

Ford City CA 93268

Property Number: 54201040006

Status: Surplus

GSA Number: 9-B-CA-1673-AC

Reason: Advertised for sale

Drill Site #9

Ford City CA 93268

Property Number: 54201040007

Status: Surplus

GSA Number: 9-B-CA-1673-AH

Reason: Advertised for sale

Drill Site #20

Ford City CA 93268

Property Number: 54201040008

Status: Surplus

GSA Number: 9-B-CA-1673-AD

Reason: Advertised for sale

Drill Site #22

Ford City CA 93268

Property Number: 54201040009

Status: Surplus

GSA Number: 9-B-CA-1673-AF

Reason: Conveyance pending

Drill Site #24

Ford City CA 93268

Property Number: 54201040010

Status: Surplus

GSA Number: 9-B-CA-1673-AE

Reason: Conveyance pending

Drill Site #26

Ford City CA 93268

Property Number: 54201040011

Status: Surplus

GSA Number: 9-B-CA-1673-AA

Reason: Advertised for sale

Seal Beach RR Right of Way

West 19th Street

Seal Beach CA 90740

Property Number: 54201140015

Status: Surplus

GSA Number: 9-N-CA-1508-AF

Reason: Expression of interest

Seal Beach RR Right of Way

East 17th Street

Seal Beach CA 90740

Property Number: 54201140016

Status: Surplus

GSA Number: 9-N-CA-1508-AB

Reason: Expression of interest

Seal Beach RR Right of Way

East of 16th Street

Seal Beach CA 90740

Property Number: 54201140017

Status: Surplus

GSA Number: 9-N-CA-1508-AG

Reason: Expression of interest

Seal Beach RR Right of Way

West of Seal Beach Blvd.

Seal Beach CA 90740

Property Number: 54201140018

Status: Surplus

GSA Number: 9-N-CA-1508-AA

Reason: Expression of interest

Seal Beach RR Right of Way

Seal Beach

Seal Beach CA 90740

Property Number: 54201210006

Status: Surplus

GSA Number: 9-N-CA-1508-AH

Reason: Expression of interest

Seal Beach RR Right of Way

Seal Beach

Seal Beach CA 90740

Property Number: 54201210007

Status: Surplus

GSA Number: 9-N-CA-1508-AJ

Reason: Expression of interest

ILLINOIS

Former Outer Marker Compass

2651 West 83rd Place

Chicago IL

Property Number: 54201220002

Status: Excess

GSA Number: 1-U-I-797

Reason: Advertise for sale

KANSAS

1.64 Acres

Wichita Automated Flight Service

Anthony KS 67003

Property Number: 54201230002

Status: Excess

GSA Number: 7-U-KS-0526

Reason: Advertised for sale

PENNSYLVANIA

approx. 16.88

271 Sterrettania Rd.

Erie PA 16506

Landholding Agency: GSA

Property Number: 54200820011

Status: Surplus

GSA Number: 4-D-PA-0810

Reason: Advertised for sale

MASSACHUSETTS

FAA Site

Massasoit Bridge Rd.

Nantucket MA 02554

Property Number: 54200830026

Status: Surplus

GSA Number: MA-0895

Reason: Expression of Interest

MISSOURI

Long Branch Lake

30174 Visitor Center Rd.

Macon MO 63552

Property Number: 54201230006

Status: Surplus

GSA Number: 7-D-MO-0579

Reason: Expression of Interest

SWPA—Jenkins Antenna Site

Barry County

Jenkins MO

Property Number: 54201230011

Status: Surplus

GSA Number: 7-B-MO-0696

Reason: Advertised for sale

NEVADA

RBG Water Project Site

Bureau of Reclamation

Henderson NV 89011

Property Number: 54201140004

Status: Surplus

GSA Number: 9-I-AZ-0562

Reason: Expression of interest

NORTH DAKOTA

Vacant Land of MSR Site

Stanley Mickelsen

Nekoma ND

Property Number: 54201130009

Status: Surplus

GSA Number: 7-D-ND-0499

Reason: Advertised for sale

Interior

ALABAMA

BUILDING

Tract 101-02; Trailer

1616 Chappie James Ave.

Tuskegee AL 36083

Property Number: 61201240008

Status: Unutilized

Reason: disposal pending

Travel Trailer

Horseshoe Bend Nat'l Park

Daviston AL 36256

Property Number: 61201230013

Status: Unutilized

Reason: Disposal pending

Silver Hill Rock House

Buffalo Nat'l River

St. Joe AR 72875

Property Number: 61201240010

Status: Excess

Directions:

Tract 06-126-1

Reason: disposal pending

CALIFORNIA

BUILDING

Nob Hill Shower House

Yosemite Nat'l Park

Yosemite CA 95389

Property Number: 61201230007

Status: Unutilized

Reason: disposal pending

MISSISSIPPI

BUILDING

Tract 102-12A

516 ½ South Canal St.

Natchez MS 39120

Property Number: 61201240022

Status: Unutilized

Reason: disposal pending

Tract 102-11B

516 South Canal St.

Natchez MS 39120

Property Number: 61201240023

Status: Unutilized

Directions:

Natchez Nat'l Historical Park

Reason: Disposal pending

Tract 102-11A

516 South Canal St.

Natchez MS 39120

Property Number: 61201240027

Status: Unutilized

Directions:

Natchez Nat'l Historic Park

Reason: Disposal pending

Tract 29666

209 Water Plant Rd.

Ocracoke NC 27960

Property Number: 61201240001

Status: Unutilized

Directions:

Cape Hatteras Nat'l Seashore

Reason: Disposal pending

Tract 29665

199 Water Plant Rd.

Ocracoke NC 27960

Property Number: 61201240002

Status: Unutilized

Reason: Disposal pending

NORTH CAROLINA

BUILDING

Tract 29664

189 Water Plant Rd.

Ocracoke NC 27960

Property Number: 61201240003

Status: Unutilized

Directions:

Cape Hatteras Nat'l Seashore

Reason: Disposal pending

Tract 29960

221 Water Plant Rd.

Ocracoke NC 27960

Property Number: 61201240004

Status: Unutilized

Directions:

Cape Hatteras Nat'l Seashore

Reason: Disposal pending

Tract 59930

214 Dare Ave.

Manteo NC 27954

Landholding Agency: Interior

Property Number: 61201240006

Status: Unutilized

Reason: Disposal pending

NORTH CAROLINA

BUILDING

Tract 59929

216 Dare Ave.

Manteo NC 27954

Property Number: 61201240007

Status: Unutilized

Reason: Disposal pending

Tract 01-106

129 Green Acres Lane

Greensboro NC 27410

Property Number: 61201240015

Status: Unutilized

Directions:

Guilford Courthouse Nat'l Military Park

Reason: Disposal pending

Tract 01-134

121 Green Acres Lane

Greensboro NC 27410

Property Number: 61201240016

Status: Unutilized

Directions:

Guilford Courthouse Nat'l Military Park

Reason: Disposal pending

Tract 01-141

119 British Lakes Dr.

Greensboro NC 27410

Property Number: 61201240017

Status: Unutilized

Directions:

Guilford Courthouse Nat'l Military Park

Reason: Disposal pending

Tract 01-144 A

3500 Battleground Ave.

Greensboro NC 27410

Property Number: 61201240018

Status: Unutilized

Directions:

Guilford Courthouse Nat'l Military Park

Reason: Disposal pending

Tract 01-144B

103 British Lakes Dr.

Greensboro NC 27410

Property Number: 61201240025

Status: Unutilized

Directions:

Guilford Courthouse Nat'l Military Park

Reason: Disposal pending

Tract 01-162

107 British Lakes Dr.

Greensboro NC 27410

Property Number: 61201240026

Status: Unutilized

Directions:

Guilford Courthouse Nat'l Military Park

Reason: Disposal pending

PENNSYLAVIA

BUILDING

Tract 101-30

4501 County Line Rd.

King of Prussia PA 19406

Landholding Agency: Interior

Property Number: 61201240009

Status: Excess

Reason: Disposal pending

Tract 05-151

1198 Taneytown Rd.

Gettysburg PA 17325

Landholding Agency: Interior

Property Number: 61201240028

Status: Excess

Reason: Disposal pending

OREGON

BOR Land

Hyatt Lake Safe Property

Hyatt Reservoir Area

Ashland OR

Landholding Agency: Interior

Property Number: 61201240011

Status: Unutilized

Reason: Disposal pending

[FR Doc. 2013-02948 Filed 2-14-13; 8:45 am]

BILLING CODE 4210-67-P